DEPARTMENT OF HOMELAND SECURITY

Coast Guard

46 CFR Parts 1, 10, 11, 12, 13, 14, 15, and 16

[Docket No. USCG-2021-0834]

RIN 1625-AC86

Mariner Credentialing Program Transformation

AGENCY: Coast Guard, DHS.

ACTION: Notice of proposed rulemaking.

SUMMARY: The Coast Guard's Mariner Credentialing Program issues merchant mariner credentials and medical certificates, approves training courses and programs, and approves other qualifications such as a Qualified Assessor and a Designated Examiner. Under this rulemaking, the Coast Guard proposes to allow for the electronic submission of information required for credentialing to allow for the future implementation of a new information technology system to support the mariner credentialing process. The Coast Guard also proposes to require the electronic payment of mandatory fees for merchant mariner credentials through Pay.Gov, to remove the requirement for prospective mariners to take an oath before an authorized official, and to change the requirements for the Certificate of Discharge to Merchant Mariners. Finally, the Coast Guard proposes technical amendments to update addresses and websites, to remove antiquated terminology, and to amend language to use gender-neutral terms.

DATES: Comments and related material must be received by the Coast Guard on or before May 13, 2024.

ADDRESSES: You may submit comments identified by docket number USCG-2021-0834 using the Federal Decision-Making Portal at www.regulations.gov. See the “Public Participation and Request for Comments” portion of the SUPPLEMENTARY INFORMATION section for further instructions on submitting comments.

Collection of information. Submit comments on the collection of information discussed in section VI.D of this preamble both to the Coast Guard's online docket and to the Office of Information and Regulatory Affairs (OIRA) in the White House Office of Management and Budget (OMB) using their website www.reginfo.gov/public/do/PRAMain. Comments sent to OIRA on the collection of information must reach OMB on or before the comment due date listed on their website.

FOR FURTHER INFORMATION CONTACT: For information about this document call or email Mr. Charles J. Bright, CG-MMC-1, Coast Guard; telephone 202-372-1046, email Charles.J.Bright@uscg.mil.

SUPPLEMENTARY INFORMATION:

Table of Contents for Preamble

I. Public Participation and Request for Comments

II. Abbreviations

III. Basis and Purpose

IV. Background

V. Discussion of Proposed Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at www.regulations.gov. To do so, go to www.regulations.gov, type USCG-2021-0834 in the search box and click “Search.” Next, look for this document in the Search Results column, and click on it. Then click on the Comment option. If you cannot submit your material by using www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the www.regulations.gov Frequently Asked Questions web page. We review all comments received, but we will only post comments that address the topic of the proposed rule. We may choose not to post off-topic, inappropriate, or duplicate comments that we receive.

Personal information. We accept anonymous comments. Comments we post to www.regulations.gov will include any personal information you have provided. For more about privacy and submissions to the docket in response to this document, see DHS's eRulemaking System of Records notice (85 FR 14226, March 11, 2020).

Public meeting. We do not plan to hold a public meeting, but we will consider doing so if we determine from public comments that a meeting would be helpful. We would issue a separate Federal Register notice to announce the date, time, and location of such a meeting.

II. Abbreviations

ACH Automated Clearing House

BLS Bureau of Labor Statistics

CBO Congressional Budget Office

CFR Code of Federal Regulations

CG-MMC Coast Guard Office of Merchant Mariner Credentialing

CG-719B Application for Merchant Mariner Credential

DHS Department of Homeland Security

EFT Electronic Funds Transfer

Form CG-718A Certificate of Discharge to Merchant Mariner

FR Federal Register

FRED Federal Reserve Economic Data

GS General Schedule

GSA General Services Administration

ICR Information Collection Request

IT Information Technology

MCP Mariner Credentialing Program

MMC Merchant Mariner Credential

MMLD Merchant Mariner Licensing and Documentation

NHTSA National Highway Traffic Safety Administration

NMC National Maritime Center

NPRM Notice of proposed rulemaking

OMB Office of Management and Budget

OPM Office of Personnel Management

RA Regulatory analysis

RFA Regulatory Flexibility Act

REC Regional Exam Center

§ Section

U.S.C. United States Code

USCG United States Coast Guard

III. Basis and Purpose

The legal basis of this proposed rule is title 46 of the United States Code (U.S.C.), Sections 7101(b) and 7301(b), which authorize the Secretary of the Department of Homeland Security (DHS) to establish the experience and professional qualifications required for the issuance of merchant mariner licenses and documents. The DHS Secretary has delegated the rulemaking authority under 46 U.S.C. 7101 and 7301 to the Coast Guard through DHS Delegation No. 00170.1(II)(92)(e) and (f), Revision No. 01.3. Additionally, 14 U.S.C. 102(3) grants the Coast Guard broad authority to issue and enforce regulations for the promotion of safety of life and property on waters subject to the jurisdiction of the United States, which includes establishing the experience and professional qualifications required for the issuance of credentials.

The purpose of this proposed rule is to revise title 46 of the Code of Federal Regulations (CFR), subchapter A, part 1, and subchapter B, parts 10-16, to allow for the electronic submission of information to the Coast Guard for the issuance of a Merchant Mariner Credential (MMC) and the supporting administrative processes, including requiring the payment of mandatory fees through the federal government-recognized system, Pay.gov. The Coast Guard also proposes removing the requirement for prospective mariners to take an oath before an authorized official and changing requirements for the completion and issue of a Certificate of Discharge to Merchant Mariner (Form CG-718A). In addition, the Coast Guard proposes technical amendments, such as updating addresses and websites, removing antiquated terminology, and adopting gender-inclusive language by replacing gender-specific terms.

IV. Background

The Coast Guard's Mariner Credentialing Program (MCP) issues MMCs and Medical Certificates to applicants who have met the regulatory criteria established in 46 CFR subchapter B. This includes the evaluation of individual qualifications and medical fitness, administering examinations and issuing the MMC. In addition, the MCP also conducts supporting processes, such as approving mariner training courses and programs; approving course instructors; conducting course oversight and auditing; and approving Qualified Assessors (QA) and Designated Examiners (DE).¹ The National Maritime Center (NMC) and its field units, called Regional Exam Centers (REC) and Monitoring Units (MU), conduct these MCP processes, which have traditionally relied on handwritten applications, mailed correspondence, and recordkeeping in paper-based files. It was not until the early 1990s that the Coast Guard implemented its Merchant Mariner Licensing and Documentation (MMLD) database to partially automate the process.

¹ Qualified Assessor and Designated Examiner are as defined in 46 CFR 10.107 and 10.405.

MMLD is a database used by the NMC to issue MMCs, medical certificates and manage mariner information. MMLD is internal to the Coast Guard and does not allow for direct interaction with maritime stakeholders. Even with the addition of MMLD, all aspects of the MCP rely heavily on the paper-based submittal of information. This includes the submission of handwritten, paper forms, such as Form CG-719B, Application for Merchant Mariner Credential, CG-719K, Application for Medical Certificate, and supporting documentation, as well as conducting paper-based examinations that are mailed to mariners, or administered in person, by the Coast Guard. In recent years, the Coast Guard has accepted Adobe Acrobat versions of the paper applications and information through emails to improve customer service and efficiency during the COVID-19 pandemic. However, this still requires the transfer of the mariner's information from emailed documentation by manual entry of all information into the MMLD database for reviewing and processing. This process is time-consuming, inefficient, and does not provide effective customer service. These inefficiencies also make the Coast Guard susceptible to fraudulent activities related to accepting documents that cannot be validated and may contain falsified information or incorrect data. For example, if a mariner submits a training course completion or sea service document, it is difficult to validate this information against the course provider completed course information submitted to the Coast Guard or vessel information such as propulsion type or registered tonnage.

The Coast Guard is working to replace MMLD with a more technologically advanced, secure, agile, and user-friendly system that would reduce risk and improve customer service to mariners and the maritime industry. The anticipated replacement system will be web-based, allowing for direct virtual interaction between the Coast Guard and maritime industry stakeholders. Currently over 50 percent of MMC applications submitted are incomplete, resulting in delays to request and receive the missing information. The replacement system would aim to eliminate these delays and would allow for more efficient processing, tracking, and feedback on the status of the credential or medical certificate. In addition, system users would be able to electronically provide required information directly to the Coast Guard for review or approval. These users would include maritime training providers, maritime employers, and other entities submitting required information on behalf of the mariner, such as course completion data, documentation of sea service, or assessments of competency. This would increase the ability to validate and protect information and reduce the likelihood of fraud from the falsification of such mariner records. As the primary source of consolidated data on merchant mariners and their qualifications, this would also support national defense requirements by allowing for accurate data analysis of merchant mariners needed to support contingency operations.

The future MCP system would enable the electronic submission of information for the processing of credentials and other qualifications and approvals, as well as reconciling the collection of mandatory fees through Pay.gov. Allowing for the electronic submission of certain data and requiring electronic payments requires a regulatory update to 46 CFR part 1 of subchapter A and parts 10-16 of subchapter B. While the development and testing of the new system will take time, these regulatory changes are required to set the conditions for the implementation of the new system's capabilities.

Mariners must pay mandatory fees for the Coast Guard evaluation of an MMC application, administration of an examination, and issuance of an MMC. The Coast Guard is not proposing to change the amount of any of the mandatory fees. Regulations establish the amount and method for the payment of fees; specifically, 46 CFR 10.219(d)(3) allows for payments by cash, check, money order, or credit card. Accepting cash, checks, and money orders as payments is costly and inefficient, often creating issues with fee reconciliation for mariners. Cash must be converted to a money order, checks and money orders must be deposited via standard mail to the Federal Lockbox, and all deposits must be reconciled. The Coast Guard currently does not have an efficient way to track mandatory fees, particularly cash and money orders, in MMLD or the Coast Guard financial management system. This has led to overpayments and underpayments of mandatory fees, delays in processing refunds, and delays in issuing mariner credentials when proper fees have not been received. There are also no automated mechanisms to identify the need for a refund. Instead, a refund usually occurs only after it is requested by the individual receiving services. These inefficiencies typically delay refunds to individuals.

Requiring electronic payment via Pay.gov would allow for more efficient processing of mandatory fees, including easier reconciliation, refunds, and protection of financial information, and would eliminate the burden of Coast Guard personnel handling non-electronic forms of payment. From 2015 to 2019, most payments of mandatory fees affected by this proposal were made electronically through Pay.gov.² Cash payments were not accepted during the COVID-19 pandemic. Only a few cash payments have been received since 2019 and this trend is anticipated to continue.³ Credit or debit card (or a purchased credit card) and check payments, via bank automated clearing house (ACH) payments, would still be accepted as a means of payment through Pay.gov.

² Approximately 80 percent of payments received from 2015-2019 were through Pay.gov. This increased to over 90 percent during the years from 2020-2022.

³ The number of cash payments recorded by the Coast Guard: CY 2020—31, CY2021—2, and CY2022—19.

In addition, this proposal would align Coast Guard regulations with U.S. Treasury regulations on the management of federal agency receipts, disbursements, and the operation of cash management. Specifically, 31 CFR part 206 prescribes regulations for promoting efficient, effective cash management through improved billing, collection, deposit, and payment of funds. These objectives seek to improve funds' availability and the efficiency and effectiveness with which funds are transferred. Specifically, 31 CFR 206.4 establishes that all funds are to be collected and disbursed by Electronic Funds Transfer (EFT) when cost-effective, practicable, and consistent with current statutory authority. In addition, 31 CFR 206.4(b)(1) specifies that EFT will be adopted as the presumed collection method when fees and fines are recurring or of large dollar amounts.

The Coast Guard also proposes to remove the requirement for original applicants to take an oath before an authorized official and to change the requirements for the completion and submission of Form CG-718A. Taking the oath before an authorized official is duplicative because the oath is part of Form CG-719B that the original applicant must attest to when they provide their signature. Requiring an oath before an authorized official or notary, places an undue burden on the original applicant who may need to pay for notary services. The signature and attestation on Form CG-719B legally binds the original applicant to that oath without the additional requirements and potential cost.

Form CG-718A, Certificates of Discharge, and associated processes are used to document a mariner's time on a vessel including the capacity the mariner sailed (3rd Mate, 2nd Engineer, etc.), date joining the vessel, and date leaving the vessel among other information. By reviewing and attesting to the information on Form CG-718A, the vessel master and mariner agree to its correctness. This information can be used to verify the mariner's time for salary, sea service, and for other purposes. Form CG-718A process is clarified to ensure proper information is obtained and provided to the mariner and the Coast Guard by the vessel master and shipping company. This updates the process from paper and carbon copy forms, allowing for updated methods, such as electronic forms, electronic signatures, and improved recordkeeping, in the modern-day maritime industry. The information required for Form CG-718A would remain the same, but the method of obtaining, processing, and retaining the Form would allow for electronic processing by the owner, operator, Master, or Chief Engineer of the vessel.

Finally, the Coast Guard proposes technical amendments, such as updating addresses and websites, removing antiquated terminology, and adopting gender-inclusive language by replacing gender specific terms. This would align with other sections of Coast Guard regulations, where outdated terminology has been removed or updated when provided the opportunity to do so through rulemaking. It would also provide a clearer understanding of Coast Guard and governmental requirements.

V. Discussion of Proposed Rule

This rule proposes to allow for the electronic submission of MMC applications and supporting documents to the Coast Guard, and to require electronic payment of mandatory fees through Pay.gov. This rule also proposes to remove the requirement for original MMC applicants to take an oath before an authorized official or notary because the Coast Guard has determined it is a redundant part of the original MMC application process. This rule further proposes to amend the process for issuing certificates of discharge for mariners after completing a voyage to clarify the procedures and allow for electronic processing and recordkeeping. Finally, the Coast Guard proposes to make non-substantive changes to antiquated terminology and out-of-date website and address information to clarify existing regulatory text in the affected subparts of the CFR.

To prepare for the future acquisition of an information technology (IT) system to replace the antiquated and inefficient MMLD system used by the MCP, this rule proposes to amend 46 CFR subchapter A, part 1, and subchapter B, parts 10-16, to allow for electronic submission of information, in a manner specified by the Coast Guard, to obtain MMCs, medical certificates, and the approval of mariner training courses and programs, Qualified Assessors, and Designated Examiners. Providing for the electronic submission of required information would streamline the credentialing process and would prepare for the fully electronic IT system that will be used by the MCP and industry.

This proposed rule requires electronic payment of mandatory fees through Pay.gov. Manual processing of the remaining cash, checks, credit cards, or money orders that are still allowed requires significant work hours by NMC and REC personnel, is difficult to validate and protect using the current system, and does not meet the requirements of the U.S. Treasury. Currently, applicants can make payments in person at an REC using cash, check, credit card, or money order. With this proposed rule, the Coast Guard would no longer directly accept payments made using these methods at RECs. Applicants who wish to continue to use cash or money orders could obtain a prepaid credit card to pay fees using Pay.gov. Applicants who wish to pay via personal check can make an ACH payment through Pay.gov. As noted in IV. Background, the Coast Guard anticipates the use of cash or money orders to continue to decrease, based upon previous payment statistics. This also reflects the overall public trend in the United States to make payments using a credit card, debit card, or check. The 2019 Federal Reserve Payments Study and subsequent updates indicate a continued trend to using cards and ACH with the growth rate of core noncash payments being 6.7 percent per year from 2015 to 2018, higher than the growth rate of 5.1 percent per year from 2012 to 2015.⁴

⁴ The 2019 Federal Reserve Payments Study, p14, https://www.federalreserve.gov/newsevents/pressreleases/files/2019-payments-study-20191219.pdf.

Credit and debit card usage numbers declined with the onset of the COVID-19 pandemic, mostly from the lack of in-person transactions, but general growth continued, including the percentage of ACH payments.⁵ Electronic payment would reduce the burden on Coast Guard personnel who process non-electronic payments (cash, check, money orders) and improve customer service to mariners by allowing for better reconciliation and more efficient processing of payments and refunds.

⁵ Developments in Noncash Payments for 2019 and 2020: Findings from the Federal Reserve Payments Study, p7, https://www.federalreserve.gov/publications/files/developments-in-noncash-payments-for-2019-and-2020-20211222.pdf.

This rule also proposes changes to 46 CFR 14.307 regarding entries on certificates of discharge for mariners after completing a voyage to clarify the procedures and allow for electronic processing and recordkeeping. The process would be clarified by requiring that each master or person in charge must, for each individual mariner being discharged from the vessel, prepare a Form CG-718A in accordance with the procedures prescribed by the Coast Guard. The prescribed format may include the current CG-718A or other means provided by the Coast Guard, which would allow for electronic processing if available in a new MCP system. If a Master or persons in charge of a vessel do not use a Coast Guard-prescribed format, the mariner must be provided with all the same information included on Form CG-718A. This ensures the vessel Master or operating companies provide the required information to the mariner but allows for them to use vessel or company specific means, such as a payroll system incorporated in their vessel administrative systems. Following each voyage, every mariner being discharged must validate the information on Form CG-718A by signing it. The proposed change from signing in “permanent ink” to “by signing” allows for more modern methods such as electronic signature or document verification. Finally, when the mariner departs the vessel, the Master or individual in charge must give Form CG-718A to the mariner, which could be provided electronically with the proposed changes. The proposed changes to Form CG-718A's process creates a more modern and electronic means of processing the document. Under this proposed rule, there would be no change to the certificate of discharge transmission process under 46 CFR 14.311.

In addition, this proposed rule would remove the requirement to take an oath before an authorized official while certifying an Application for Merchant Mariner Credential (Form CG-719B). By signing the form, an individual attests that they do “solemnly swear or affirm” to abide by the requirements of the oath. This legally binds a mariner, so no additional requirement before an authorized official is necessary. The Coast Guard also anticipates that the future MCP system will allow for electronic signatures and additional verification of identity, negating the need for the requirement to take an oath before an authorized official.

Finally, the Coast Guard proposes technical amendments to 46 CFR parts 1 and 10 through 16 as part of this rulemaking. These amendments would account for updates to websites and addresses, remove antiquated language (such as “licenses” and “Merchant Mariner Document (MMD),” as those credentials are no longer issued by the Coast Guard), and make non-substantive changes to ensure gender-neutrality throughout.

VI. Regulatory Analysis

We developed this proposed rule after considering numerous statutes and Executive orders related to rulemaking. A summary of our analyses based on these statutes or Executive orders follows.

A. Regulatory Planning and Review

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

The Office of Management and Budget (OMB) has not designated this proposed rule a significant regulatory action under section 3(f) of Executive Order 12866, as amended by Executive Order 14094. Accordingly, OMB has not reviewed it. A regulatory analysis (RA) follows.

For this regulatory analysis, the term “applicants” refers to all individuals who pay mandatory fees associated with an MMC application. The proposed changes and estimated cost savings for § 10.219(d) would affect these applicants. The phrase “original applicants” refers to individuals who are applying for their first MMC and therefore are currently required to take an oath before an authorized official. The number of original applicants is a subset of all applicants because they must also pay fees. The proposed changes and cost savings to § 10.225(c) would affect only original applicants.

In this rulemaking, the Coast Guard proposes to update 46 CFR subchapter A, part 1, and subchapter B, parts 10 through 16. The proposed rule would:

• Require electronic payment of merchant mariner credentialing fees in § 10.219(d); ⁶

⁶ The proposed rule affects all applicants who apply for MMCs. Mandatory fees include evaluation, examination, and issuance fees. The Coast Guard data does not differentiate between these fees in the data it collects; the data the Coast Guard collected for this analysis are for any fees where applicants may pay for any or all of them at one time.

• Remove the requirement for an oath to be administered by an official who serves as a notary public (or an authorized official who can administer an oath) on Form CG-719B in § 10.225(c);

• Allow for the electronic submission of certain documents in §§ 1.03-15(h)(2)(i) for appeals involving course approvals and merchant mariner personnel issues and 10.219(i) for requests involving no-fee MMCs;

• Consolidate, condense, and clarify regulatory text for the processing of Form CG-718A in §§ 14.307(a), (b), and (c) when a mariner completes a voyage; and

• Make non-substantive, editorial changes to current regulatory text, such as pronoun changes, address changes, the removal of certain terms, and other minor grammatical changes.

Table 1 presents a summary of the impacts of the proposed rule.

Table 1—Summary of Impacts of the NPRM
Category | Summary
Applicability—46 CFR subchapter A, part 1, and subchapter B, parts 10-16 | —Requires applicants for an MMC to pay evaluation, examination, and issuance fees electronically through Pay.gov; ⁷ —Removes requirement for original applicants to take an oath before an authorized official; —Provides the option of electronic submission of additional documents to support MMC applications and Coast Guard approvals; and —Makes editorial changes that clarify, remove, condense, and add non-substantive regulatory text.
Affected Population | —Applicants for MMCs; and —Approximately 36,838 applicants,⁸ annually.
Total Cost Savings of Proposed Rule (7-percent discount rate-all estimates in table, $2021) | Assumption 1 (Cost Savings to applicants of MMCs): Approximately $2.6 million over 10-year period of analysis. Annualized, approximately $364,945.
| Assumption 2 (Cost Savings to applicants of MMCs): Approximately $3.0 million over 10-year period of analysis. Annualized, approximately $433,379.
| Federal Government Cost Savings: Approximately $215,655 over 10-year period of analysis. Annualized, approximately $30,704.
| Total Cost Savings of Proposed Rule:
| Assumption 1: Approximately $2.8 million over 10-year period of analysis. Annualized, approximately $395,650.
| Assumption 2: Approximately $3.3 million over 10-year period of analysis. Annualized, approximately $464,084.
Unquantifiable Costs | —There are no regulatory provisions of the proposed rule that would impose net costs on individuals, companies, or the maritime industry. —The proposed rule would remove non-electronic and in-person payments options for applicants. —This proposed rule would remove requirements in § 10.219(d) and § 10.225(c), which would produce net cost savings to applicants.
Unquantifiable Cost Savings | —Provides cost savings from the option of electronic submission of certain documents in parts 1.03-15(h)(2)(i) and 10.219(i).
Unquantifiable Benefits | —Provides flexibility with option of electronic submission of certain documents; —Clarifies submission of Form CG-718A in part 14.307; allows for additional signature methods and retention procedures.
Note: Cost savings estimates in each assumption include estimates for § 10.219(d).

We discuss the economic impact of these items individually in the cost savings section of this RA. We request public comment on the numerical estimates and assumptions in the RA for this proposed rule.

⁷ Readers can access the National Maritime Center's (NMC) website and Pay.gov to obtain information about the payment of fees at www.dco.uscg.mil/nmc/fees/. The Coast Guard accessed this web page in the summer of 2022.

⁸ For this regulatory analysis, the term “applicants” refers to all individual applicants who pay mandatory fees. The proposed changes and estimated cost savings for § 10.219(d) would affect these applicants. The phrase “original applicants” refers to individuals who apply for their first MMC and therefore are required by existing regulation to take an oath before an authorized official. The proposed changes and cost savings to § 10.225(c) would affect only original applicants. We also assume the affected population of applicants has bank accounts.

This proposed rule would generate cost savings to applicants, including original applicants, for two proposed changes in 46 CFR 10.219(d) and 10.225(c), and for the Federal Government in § 10.219(d).

For part 10.219(d), each applicant would save about $13.53 for a credit card payment and about $11.82 for a cash payment with this proposed rule.

For part 10.225(c), under Assumption 1, for all applicants, an individual applicant would save about $14.95; and under Assumption 2, for half of the applicants (6,976), each applicant who goes to a bank branch would save about $14.95; for the other half (6,976) of the applicants who go to a notary service, half of whom pay by credit card (3,488) and half of whom pay by cash (3,488); each applicant who pays by credit card would save about $25.37, and by cash, about $24.15.

First, the proposed changes in § 10.219(d) would require an applicant for an MMC to pay the required evaluation, examination, and issuance mandatory fees by electronic means through Pay.gov. Currently, an applicant can make a payment in person at an REC using cash, check, credit card or money order. With this proposed rule, the Coast Guard would no longer directly accept payments made using these methods; as a result, this proposed rule would remove the payment options made with cash, check (in person), credit card (in person), and money order, and payments made by standard mail. The cost savings that we estimate for § 10.219(d) are for applicants who would no longer expend the time to visit an REC to pay the fees by cash, check, credit card, and for payments made by check through standard mail. For the purpose of this analysis, we analyzed payments made by cash and credit card because they represented the majority of payments made in person at RECs. We also analyzed check and money order payments made by applicants outside of RECs. In addition to cash and credit card payments, applicants can also make payments by check and money order in person at an REC. However, the Coast Guard does not collect data to show where applicants made these payments. For this analysis and based on Coast Guard information from RECs, where most applicants pay by cash or credit card, we then assumed applicants made check and money order payments by standard mail outside of an REC.

The changes we propose to § 10.219(d) would also generate cost savings for the Federal Government for Coast Guard employees who would no longer expend the time to process in-person payment transactions at RECs.

The cost savings associated with § 10.225(c) would be from the removal of the requirement to have an oath administered by a person legally qualified to administer an oath, or a notary public, near an original applicant's place of residence (in the town or city where an original applicant resides) before an original applicant receives an MMC.⁹ The Coast Guard does not estimate the Federal Government would realize any cost savings associated with this proposed change. The remaining changes of the proposed rule would not generate any costs or cost savings to the maritime industry, individuals, or the Federal Government. Lastly, this proposed rule would not alter any current OMB-approved Coast Guard information collection request (ICR).

⁹ A notary public is an individual who has met the requirements to provide notary public services to the general public in order to verify a person's identity. Currently, in the case of Form CG-719B, when an original applicant applies for an MMC either at an REC or near an original applicant's place of residence (either at a bank or bank branch or where there is a notary service in the U.S.), the original applicant must sign the form in the presence of a notary public. The notary public must also sign the form; this process serves as the oath for the original applicant in accordance with the information contained in Form CG-719B. Readers can access www.nationalnotary.org to obtain more information about notary services in the U.S. The Coast Guard accessed this web page in the summer of 2022.

§ 10.219(d)

We estimate the total discounted cost savings for the proposed change to § 10.219(d) for applicants who pay mandatory fees at RECs (typically by cash or credit card) and for applicants who pay by check and money order outside of an REC through standard mail would be approximately $1.0 million, rounded, over a 10-year period of analysis, using a 7-percent discount rate. The cost savings are associated with the time (transaction time) applicants would save from making in-person payments to using Pay.gov. We estimate the annualized cost savings for applicants who pay in-person at RECs and by cash would be approximately $3,439 rounded, using a 7-percent discount rate. We estimate the annualized cost savings for applicants who pay in-person at RECs by credit card would be approximately $134,735, rounded, using a 7-percent discount rate. We estimate the annualized cost savings for applicants who pay by check and money order through standard mail would be approximately $6,951 rounded, using a 7-percent discount rate. Finally, we estimate the total annualized cost savings of part 10.219(d) to applicants who pay in-person at RECs and by check and money order to be approximately $145,125 ($3,439 + $134,735 + $6,951), rounded.

We estimate the discounted cost savings to the Coast Guard for the proposed change to § 10.219(d) would be approximately $215,655 over a 10-year period of analysis, using a 7-percent discount rate. In addition, we estimate the annualized cost savings to the Coast Guard for this regulatory provision would be approximately $30,704, rounded, using a 7-percent discount rate.

§ 10.225(c)

In this regulatory analysis, we make two assumptions associated with the proposed removal of the requirement to take an oath before an authorized official in § 10.225(c). These assumptions apply to applicants who pay the mandatory fees and take an oath at a location other than an REC or at their place of residence (for the purpose of this regulatory analysis, we refer to individuals who are affected by the proposed changes to § 10.225(c) only as “original applicants”). These two assumptions are necessary, because the Coast Guard does not have data on whether original applicants obtain an oath through a notary public service at a bank near their place of residence, which is (Assumption 1), where an individual can obtain an oath for an original application along with a notary public signature, which we assume to be free of charge; or elsewhere, other than a bank, which is (Assumption 2), where there is a cost for the notary public service.¹⁰

¹⁰ The Coast Guard collects information on the number of payment transactions for original applications and for other payments of MMC fees. For the purpose of this analysis, we assumed each payment transaction represents one individual or mariner. There may be more than one payment transaction for an application, but for tractability of this analysis, we assumed a one-to-one ratio.

Therefore, if the reader accepts Assumption 1 to be representative of the current actions by applicants, then the cost savings the Coast Guard estimates for this assumption would be the cost savings of the proposed rule, in addition to the cost savings from the proposed change to § 10.219(d). If the reader accepts Assumption 2 to be representative of the current actions by applicants, then the cost savings the Coast Guard estimates for this assumption would be the cost savings of the proposed rule, in addition to the cost savings from the proposed change to § 10.219(d).

Other assumptions may be made about the locations or establishments where original applicants obtained an oath through a notary public service, such as through legal services, at a title application company, or other such local business services, but we believe these assumptions capture the actions that applicants take when they apply for MMCs. The Coast Guard requests comments from the public on these two assumptions, and whether a third assumption should be considered along with or instead of these two assumptions. Lastly, for the purpose of this analysis, the Coast Guard assumes applicants have bank accounts. We request comments from the public on the validity of this assumption.

Assumption 1 for § 10.225(c): Our first assumption is that original applicants, who are affected by this part of the proposed rule, can obtain an oath through a notary public service at a or bank branch (which we assume to be free of charge) near where they reside.¹¹ Under this assumption, we estimate this proposed rule would save original applicants (an estimated 13,951 annually, rounded) a discounted amount of approximately $1.5 million over a 10-year period of analysis, using a 7-percent discount rate. The cost savings include the cost of the travel time for an applicant who would have traveled to obtain a notary public, the mileage cost, and the time an applicant would have waited at a bank to obtain a notary public. We estimate the annualized cost savings for original applicants would be approximately $219,820, using a 7-percent discount rate. These figures do not include the cost savings for the proposed change to § 10.219(d).

¹¹ The Coast Guard acknowledges that some banks or bank branches may not provide a notary public service free of charge; however, we assumed applicants with a bank account at a given bank do not incur a cost for a notary public service if they are a member of that bank. Readers can access these websites for more information on notary public services at banks: https://www.bankofamerica.com/signature-services/notary/, and https://www.citizensbank.com/learning/notary-public-services.aspx.

Assumption 2 for § 10.225(c): Our second assumption is that half of the original applicants can obtain an oath through a notary public service at a bank or bank branch near where they reside, which we assume to be free of charge. The other half of original applicants (an estimated 6,976 annually, rounded) can obtain this service at a state office, an establishment that provides notary public services, or a similar entity which charges for notary public service. Assumption 2 considers the cost savings associated with the proposed removal of the oath and the notary public service for the affected population of all original applicants, or 13,951. Under this assumption, we assumed half of the applicants would obtain a notary public at a bank, where it is free of charge, and half at an establishment other than a bank, where there would be a cost for a notary public. The cost savings for half of the original applicants who obtain a notary public at a bank would be from the time it would take to travel to a bank, the mileage cost, and the time to wait at a bank for a notary public. The cost savings for the other half of original applicants who obtain a notary elsewhere would be the same as applicants that go to a bank with the addition of the cost savings from not having to pay for a notary public.

With this assumption, the Coast Guard estimates the proposed rule would save original applicants a discounted amount of approximately $2.0 million over a 10-year period of analysis, using a 7-percent discount rate. The Coast Guard estimates the annualized cost savings for original applicants would be approximately $288,255, using a 7-percent discount rate. These figures do not include the cost savings for the proposed change to § 10.219(d).

For each assumption, the Coast Guard adds the same cost savings estimate for original applicants who would be required to pay the fees electronically under the proposed changes to § 10.219(d), or $145,125 annualized, rounded. Specifically, for Assumption 1, the Coast Guard estimates the total discounted cost savings of the proposed rule to applicants would be approximately $2.6 million over a 10-year period of analysis, using a 7-percent discount rate. The Coast Guard estimates the total annualized cost savings of the proposed rule under this assumption would be approximately $364,945.

For Assumption 2, the Coast Guard estimates the total discounted cost savings of the proposed rule to applicants would be approximately $3.0 million over a 10-year period of analysis, using a 7-percent discount rate. The Coast Guard estimates the total annualized cost savings of the proposed rule under this assumption would be approximately $433,379.

In addition, the Coast Guard expects this proposed rule to generate benefits in the form of cost savings to MMC applicants. These benefits would include:

• A simplified payment transaction through electronic means (Pay.gov), saving applicants time and money; and

• Reduced time burden for original applicants who would no longer need to obtain an oath before an authorized official, which saves time and money.

This proposed rule would also generate unquantifiable benefits, which would include:

• Flexibility for applicants by providing the option to electronically submit documents including the no-fee determination of eligibility request and the certificate of discharge; unquantifiable cost savings for applicants who would choose the option to electronically submit certain documents;

• Removal, addition, and clarification of regulatory text for Form CG-718A and other non-substantive regulatory text changes.

Table 2 presents a summary of the estimated impacts of the proposed rule.

Table 2—Summary of Impacts of the NPRM by Affected CFR Part, Subpart, and Section
46 CFR section(s) affected | Description of proposed rule change | Economic impact | Estimated cost or cost savings
Part 1—Organization, General Course and Methods Governing Marine Safety Functions, Subpart 1.01—Organization and General Flow of Functions: 1.01-15(e) | Editorial; non-substantive regulatory text changes, which includes updated website for merchant mariner credentialing | No estimated impact | None.
Subpart 1.03—Rights of Appeal: 1.03-15(h)(2)(i) | Editorial; non-substantive regulatory text changes. Adds option of electronic submission for appeals for course approvals | No estimated impact. Manner of submission would include option of electronic submission of appeals. Unquantifiable benefit of option for electronic submission of appeal, current paper-based appeal process would still be accepted | None.
Part 10—Merchant Mariner Credential, Subpart A—General: 10.107 | Editorial; non-substantive regulatory text changes | No estimated impact. Clarifies the definition of “regional examination center or REC”; adds definitions for “written,” “writing,” and “in writing.” | None.
Subpart B—General Requirements for All Merchant Mariner Credentials: 10.203(b); 10.203(c); 10.205(g); 10.209(a); 10.209(d) | Editorial; non-substantive regulatory text changes | No estimated impact | None.
10.209(d)(1); 10.209((d)(2); 10.209(d)(3) | Editorial: removes regulatory text for applicant to retain photocopy of credential and submission of certain documents in paragraph (d)(2). Other non-substantive regulatory text changes in paragraphs (d)(1) and (d)(3) | No estimated cost impact for removal of photocopy of credential and submission of certain documents because requirement is still retained in §§ 10.227 and 10.231 | None.
10.209(i) | Editorial; non-substantive regulatory text changes | No estimated impact | None.
10.211(f), (i), (j), (k), and (l) | Editorial; non-substantive regulatory text changes | No estimated impact | None.
10.213(f) | Editorial; non-substantive regulatory text changes | No estimated impact | None.
10.219(d) | Condenses paragraphs (d)(1) through (5) into one paragraph; requires payments to be made electronically | Cost savings in time saved for payment transaction for applicants who chose to pay in person at an REC and would now be required to submit payment electronically. Cost savings from mail-in checks. This would remove the in-person option for applicants who chose to pay in person at an REC | Estimated annualized cost savings of approximately $145,125 to applicants; 10-year discounted cost savings of approximately $1.0 million at 7-percent discount rate. Federal Government annualized cost savings of approximately $30,704; 10-year discounted cost savings of approximately $215,655 at 7-percent discount rate.
10.219(i)(1) | Editorial; non-substantive regulatory text changes. Adds option of electronic submission of request for determination of a request for a fee waiver | No estimated impact; manner of submission would include option for electronic submission. Unquantifiable benefit of option for electronic submission of request for determination of eligibility, current paper-based request would still be accepted | Unquantifiable cost savings.
10.223(c)(iv)(5) | Editorial; non-substantive regulatory text changes | No estimated impact | None.
10.225(c) [Please note, the cost savings estimates the Coast Guard presents for each assumption in this subpart do not include the estimates in § 10.219(d)] | Removes the requirement for an oath to be administered by any Coast Guard designated individual or any person legally permitted to administer oath in jurisdiction of individual's place of residence. Other minor non-substantive regulatory text changes | Cost savings for original applicants who obtain an oath other than through a designated Coast Guard individual because it is free of charge at an REC. Cost savings is from original applicants who do not need notary public signature on Form CG-719B | Assumption 1: Estimated annualized cost savings is approximately $219,820; 10-year discounted cost savings approximately $1.5 million at 7-percent discount rate. Assumption 2: Estimated annualized cost savings is between $288,255; 10-year discounted cost savings approximately $2.0 million at 7-percent discount rate.
10.227(d)(4); 10.227(e)(1)(i); 10.227(e)(1)(iv); 10.227(e)(4) and (5); 10.227(e)(6)(ii); 10.227(g)(2)(ii); 10.227(h) and (i) | Editorial; non-substantive regulatory text changes | No estimated impact | None.
10.231(c)(5); 10.231(d)(2) | Editorial; non-substantive regulatory text changes | No estimated impact | None.
10.232(a); 10.232(a)(4); 10.223(d); 10.223(d)(3); 10.223(d)(6) | Editorial; non-substantive regulatory text changes | No estimated impact | None.
10.233(a), (b), and (c) | Editorial; non-substantive regulatory text changes | No estimated impact | None.
10.235(c), (d), (h), and (i) | Editorial; non-substantive regulatory text changes | No estimated impact | None.
10.239, table 1 | Editorial; non-substantive regulatory text changes | No estimated impact | None.
Subpart C—Medical Certification: 10.302(a) | Editorial; non-substantive regulatory text changes | No estimated impact | None.
10.305(c), (d), and (e); 10.306(e) | Editorial; non-substantive regulatory text changes | No estimated impact | None.
Subpart D—Training Courses and Programs: 10.404(b)(1)(iv), (v), and (vii); (c)(1) and (c)(6) | Editorial; non-substantive regulatory text changes | No estimated impact | None.
10.405(a)(3); (b)(3) and (d); 10.409(e) | Editorial; non-substantive regulatory text changes | No estimated impact | None.
Part 11—Requirements for Officer Endorsements, Subpart A—General: 11.101(b); 11.102(a) | Editorial; non-substantive regulatory text changes | No estimated impact | None.
Subpart B—General Requirements for Officer Endorsements: 11.201(a), (c)(4), (g)(1) and (2), (h), (i) and (k); 11.211(c); 11.217(a) | Editorial; non-substantive regulatory text changes | No estimated impact | None.
Subpart C—STCW Officer Endorsements: 11.301(g); 11.337(a) | Editorial; non-substantive regulatory text changes | No estimated impact | None.
Subpart D—Professional Requirements for National Deck Officer Endorsements: 11.401(a), (b), and (d) | Editorial; non-substantive regulatory text changes | No estimated impact | None.
11.402(c)(2) and (3), and (d) | Editorial; non-substantive regulatory text changes | No estimated impact | None.
11.404(a)(2) and (b); 11.405(a); 11.406(a)(1) and (2), and (c); 11.407(c) and (d) | Editorial; non-substantive regulatory text changes | No estimated impact | None.
11.412(a)(1) and (2), and (b) | Editorial; non-substantive regulatory text changes | No estimated impact | None.
11.414(a)(1)(iii) | Editorial; non-substantive regulatory text changes | No estimated impact | None.
11.418(a)(1) and (2), and (b) | Editorial; non-substantive regulatory text changes | No estimated impact | None.
11.420(a) | Editorial; non-substantive regulatory text changes | No estimated impact | None.
11.422(b)(4) and (c); 11.424(a)(1) and (b) | Editorial; non-substantive regulatory text changes | No estimated impact | None.
11.425(a)(2), (b), and (d) | Editorial; non-substantive regulatory text changes | No estimated impact | None.
11.426(a)(1) | Editorial; non-substantive regulatory text changes | No estimated impact | None.
11.427(a)(2), (b), and (d) | Editorial; non-substantive regulatory text changes | No estimated impact | None.
11.428(b); 11.429(c) | Editorial; non-substantive regulatory text changes | No estimated impact | None.
11.433(a)(1) and (3); 11.435(a)(1) and (2); 11.437(a)(3) | Editorial; non-substantive regulatory text changes | No estimated impact | None.
11.442(a)(1) and (2); 11.444(a)(2); 11.446(a)(1) and (b) | Editorial; non-substantive regulatory text changes | No estimated impact | None.
11.450(c) and (d); 11.452(a) and (b); 11.454(c) and (d); 11.457(a) and (b) | Editorial; non-substantive regulatory text changes | No estimated impact | None.
11.462(c) and (c)(4)(v) and (vi), and (d)(4)(iv), (v), and (vi) | Editorial; non-substantive regulatory text changes | No estimated impact | None.
11.464(d), (g), and (h) | Editorial; non-substantive regulatory text changes | No estimated impact | None.
11.465(a), (d), and (e); 11.466(b) | Editorial; non-substantive regulatory text changes | No estimated impact | None.
11.470(b)(1) and (2), (c), (d)(1) and (d)(2), and (d)(2)(i), (e), (f)(2), (g), (h)(1), (h)(2), (h)(2)(i), (i), (j)(2), and (j)(2)(i), and (k) | Editorial; non-substantive regulatory text changes | No estimated impact | None.
11.472(a)(1), (a)(2), and (b) | Editorial; non-substantive regulatory text changes | No estimated impact | None.
11.474(a)(1), (a)(1)(i), (a)(1)(ii), (a)(2), and (b) | Editorial; non-substantive regulatory text changes | No estimated impact | None.
11.480(b), (d), (f), and (h) | Editorial; non-substantive regulatory text changes | No estimated impact | None.
11.482(b), (c), and (d) | Editorial; non-substantive regulatory text changes | No estimated impact | None.
11.491(a) | Editorial; non-substantive regulatory text changes | No estimated impact | None.
Subpart E—Professional Requirements for National Engineer Officer Endorsements: 11.501(c), (d), and (e) | Editorial; non-substantive regulatory text changes | No estimated impact | None.
11.502(b) | Editorial; non-substantive regulatory text changes | No estimated impact | None.
11.503(a), (c)(2), (3), and (4), and (d) | Editorial; non-substantive regulatory text changes | No estimated impact | None.
11.510(a)(2); 11.512(a)(1) | Editorial; non-substantive regulatory text changes | No estimated impact | None.
11.514(a)(1) and (2) | Editorial; non-substantive regulatory text changes | No estimated impact | None.
11.542(a)(1) and (2), and (b) | Editorial; non-substantive regulatory text changes | No estimated impact | None.
11.544(a)(1) and (2), and (b) | Editorial; non-substantive regulatory text changes | No estimated impact | None.
Subpart F—Credentialing of Radio Officers: 11.603; 11.604 | Editorial; non-substantive regulatory text changes | No estimated impact | None.
Subpart G—Professional Requirements for Pilots: 11.701(d); 11.703(d); 11.705(c); 11.707(b); 11.709(b); 11.713(a) and (b) | Editorial; non-substantive regulatory text changes | No estimated impact | None.
Subpart H—Registration of Staff Officers and Miscellaneous Endorsements: 11.805(a) and (b); 11.807(d); 11.821(b)(2) | Editorial; non-substantive regulatory text changes | No estimated impact | None.
Subpart I—Subjects of Examinations: 11.903(c)(1) | Editorial; non-substantive regulatory text changes | No estimated impact | None.
11.920 table 2 title | Editorial; non-substantive regulatory text changes | No estimated impact | None.
Part 12—Requirements for Rating Endorsements—Subpart A—General: 12.103(a) | Editorial; non-substantive regulatory text changes | No estimated impact | None.
Subpart B—General Requirements for Rating Endorsements: 12.201(a)(2) | Editorial; non-substantive regulatory text changes | No estimated impact | None.
Subpart C—Requirements for National Deck Rating Endorsements: 12.401(a) and (c)(3); 12.405(a) and (b)(2); 12.407(b)(1)(iii) and (b)(3); 12.409(b)(1)(iii) and (b)(3) | Editorial; non-substantive regulatory text changes | No estimated impact | None.
Subpart E—General Requirements for a Qualified Member of the Engine Department (QMED): 12.501(b)(2) and (c)(3); 12.505(a); 12.625(a)(1); 12.627(a)(1) | Editorial; non-substantive regulatory text changes | No estimated impact | None.
Subpart G—Entry-Level National Ratings and Miscellaneous Ratings: 12.707; 12.709(a); 12.711(a) | Editorial; non-substantive regulatory text changes | No estimated impact | None.
Subpart H—Non-Resident Alien Members of the Steward's Department on U.S. Flag Large Passenger Vessels: 12.809(a) and (b); 12.811(b)(5)(iii) and (e) | Editorial; non-substantive regulatory text changes | No estimated impact | None.
Part 13—Certification of Tankerman, Subpart A—General: 13.103(a) and 13.107(a), (b), (c), (d), (e), and (f) | Editorial; non-substantive regulatory text changes | No estimated impact | None.
13.111(d)(3) and (4); 13.119; 13.120(a), (b), (c), and (d); 13.127(a)(4) and (5) | Editorial; non-substantive regulatory text changes | No estimated impact | None.
Subpart B—Requirements for Tankerman-PIC Endorsement: 13.201(c) and (c)(3) | Editorial; non-substantive regulatory text changes | No estimated impact | None.
13.203(a), (b), and (c)(2); 13.205 | Editorial; non-substantive regulatory text changes | No estimated impact | None.
Subpart C—Requirements for Tankerman-PIC (Barge) Endorsement: 13.301(c) and (c)(3); 13.303(a) and (c)(2); 13.305 | Editorial; non-substantive regulatory text changes | No estimated impact | None.
Subpart D—Requirements for Tankerman-Assistant Endorsement: 13.401(c), (d), and (e) | Editorial; non-substantive regulatory text changes | No estimated impact | None.
13.405(a), (b), and (b)(2) | Editorial; non-substantive regulatory text changes | No estimated impact | None.
Subpart E—Requirements for Tankerman-Engineer Endorsement: 13.501(c) and (c)(3); 13.503(a); 13.505(a) | Editorial; non-substantive regulatory text changes | No estimated impact | None.
Part 14—Shipment and Discharge of Merchant Mariners, Subpart A—General: 14.205; 14.207(a) | Editorial; non-substantive regulatory text changes | No estimated impact | None.
Subpart C—Discharge of Merchant Mariners: 14.307(a), (b), and (c) | Removes regulatory text in paragraph (a), which includes the number of copies of Form CG-718A and other mariner information. Removes paragraphs (d) and (e) and consolidates regulatory text changes into paragraphs (b) and (c) | No estimated impact. Removal and consolidation of information in current paragraphs (a), (d), and (e) into proposed paragraphs (a), (b), and (c) is currently required on Form CG-718A | None.
Subpart D—Oceanographic Research Vessels: 14.403(a)(1) and (2); 14.405(c) and (d) | Editorial; non-substantive regulatory text changes | No estimated impact | None.
Part 16—Chemical Testing, Subpart B—General: 16.201(c) and (f) | Editorial; non-substantive regulatory text changes | No estimated impact | None.
16.210(b); 16.220(a)(1), (3), and (5), and (c); 16.230(b)(1) and (c) | Editorial; non-substantive regulatory text changes | No estimated impact | None.
Subpart E—Management Information System: 16.500(b) | Editorial; non-substantive regulatory text changes | No estimated impact | None.

Affected Population

The affected population of this proposed rule are applicants for an MMC (includes original applications) who pay MMC fees in person at an REC or outside of an REC through standard mail. Based on historical data from the NMC, the Coast Guard analyzed information on applicants who paid mandatory fees electronically through Pay.gov over a 7-year period from 2015 to 2021. Based on payment data from the NMC, one payment transaction represents one applicant for all transactions. The Coast Guard did not include 2022 in the dataset because at the time of the writing of this analysis it was not a complete data year. Under this assumption, we assumed an applicant makes one trip to an REC and pays for all transactions at that time instead of taking time to make multiple trips and paying separately for transactions. For applicants who paid fees in person at RECs, the Coast Guard used a 5-year data period from 2015-2019 because after 2019, in-person transactions became very sporadic at RECs due to COVID-19 pandemic protocols and the data are not representative of the transactions over this period of time. The Coast Guard then established two population groups. For § 10.225(c) of this proposed rule, the Coast Guard defined the population as original applicants who paid mandatory fees by money order, check, and through Pay.gov, which gave us the number of applicants who took the oath outside of an REC and obtained a notary public service near where they reside. This is for individuals who applied for an original MMC only. As an annual average, the NMC recorded approximately 13,951 payment transactions for original applications between 2015 and 2021.

For § 10.219(d) of this proposed rule, the Coast Guard defined part of the population as applicants who paid the fees by cash or credit card in person at RECs for original applications, which gave us an estimated the number of individuals who likely took the oath at RECs, where it is free of charge.¹² As an annual average, the NMC recorded approximately 1,206 in-person payment transactions for original applications between 2015 and 2019. For all other fees paid by applicants other than original applicants, the NMC recorded an annual average of 9,043 in-person payment transactions between 2015 and 2019. The Coast Guard estimates the total average annual population of applicants, who paid fees in person at an REC during this period, to be approximately 10,249 applicants.

¹² Based on NMC data, most applicants paid fees by cash or check at RECs; however, a small, unknown number of applicants paid by check or money order. The Coast Guard does not maintain data on applicants who paid by check or money order at RECs, which may result in an underestimation of applicants who paid fees in person by these two methods.

Between 2015 and 2021, the Coast Guard also recorded an annual average of approximately 12,638 payments made by applicants who paid by check or money order outside of an REC through standard mail. Therefore, the Coast Guard estimates the total average annual population affected by this proposed rule would be approximately 36,838 (13,951 + 10,249 + 12,638) applicants (see table 3).

Table 3—Affected Population of the Proposed Rule
Affected group | Affected CFR section | Population
Original applicants who paid fees electronically and took oath outside of an REC for original applications (relatively near place of residence) | 10.225(c) | 13,951.
All applicants including a subset of original applicants who paid fees in person at RECs | 10.219(d) | 10,249 (9,958 by credit card and 291 by cash; 1,206 from original applicants and 9,043 from other applicants).
All applicants who paid by check or money order through standard mail | 10.219(d) | 12,638.
Total |  | 36,838.
Note: The populations that the Coast Guard presents in this table are annual averages.

Cost Savings Analysis

Two proposed changes in this rule (in 46 CFR 10.219(d) and 10.225(c)) would result in quantifiable cost savings for MMC applicants. The other proposed changes would have no quantifiable economic impact on individuals, companies, or businesses, and would not result in costs or cost savings to them.

The proposed option in 46 CFR 1.03-15(h)(2)(i) and 10.219(i)(1) for electronic submission of certain documents that currently must be submitted by paper copy (see table 2) would likely have cost savings associated with it, but we are not able to quantify these savings in this analysis because the Coast Guard does not have data to show how many electronic submissions we would receive in the future. Additionally, because of the COVID-19 pandemic, the Coast Guard is not able to accurately determine a future trend of the number of documents that applicants would choose to submit to the Coast Guard electronically.

In table 2, we presented a summary of the estimated impacts of the proposed rule and provided a description of the change for each affected CFR section. Where the description reads “Editorial; non-substantive regulatory text changes,” we propose to make changes that include the addition, deletion, consolidation, and clarification of regulatory text and would not have cost or cost savings associated with them. These proposed changes include minor grammatical revisions, such as changes to punctuation and pronoun changes; the clarification of regulatory text by removal, deletion, or consolidation of terms; definitional changes; and changes that update Coast Guard website addresses. This includes changes in § 10.209(d)(2), “General Application Procedures,” where the Coast Guard proposes to remove the regulatory text governing the submission of certain documents by applicants. There would be no costs or cost savings to individuals that would be associated with this proposed change because the Coast Guard would still retain this requirement in §§ 10.227 and 10.231.

For § 1.03-15(h)(2)(i), “General,” the Coast Guard proposes to add the option of electronic submission of an appeal for course approvals and merchant mariner personnel to the Coast Guard. There are no quantifiable cost or cost savings associated with this proposed change because the Coast Guard does not have data on the future use of electronic submission for appeals. The Coast Guard would still accept the current paper-copy submission method for appeals.

For § 10.219(i)(1), “Determination of Eligibility,” the Coast Guard proposes to add the option of electronic submission of an eligibility request to the Coast Guard for the items listed in 10.219(h). There are no quantifiable cost or cost savings associated with this proposed change because the Coast Guard does not have data on the future use of electronic submission with this item. The Coast Guard would still accept the current paper-copy submission method for these requests.

For § 14.307, “Entries on certificate of discharge,” the information the Coast Guard proposes to remove in current paragraphs (d) and (e) is currently contained in form CG-718A, “Certificate of Discharge to Merchant Mariner;” therefore, there is no cost or cost savings associated with this proposed change.¹³ The Coast Guard proposes to remove, consolidate, and condense the existing regulatory text into paragraphs (a), (b), and (c) of this section. The proposed changes to this section do not change the current OMB-approved ICR or alter its burden estimates because the Coast Guard is not making any changes to the reporting requirements in form CG-718A.

¹³ This form is part of a currently OMB-approved Coast Guard ICR with a control number of 1625-0012. Readers can access NMC's website at https://www.dco.uscg.mil/national_maritime_center/ to view this form and obtain information about the application process. The Coast Guard accessed this web page in the summer of 2022.

Cost Savings Analysis for Proposed Changes to § 10.219(d)/Electronic Payment of Fees

The Coast Guard proposes to amend § 10.219(d) to remove the option for applicants to pay merchant mariner credentialing fees in person at an REC by cash or credit card (applicants who pay in person may also pay by check or money order; because the Coast Guard does not collect data on where these payments were made and based on payment data from the NMC and subject matter experts who work at the NMC, most applicants pay by cash or with a credit card in person) since credit card transactions are processed by individual RECs and cash payments are not accepted through standard mail. The Coast Guard would instead require all payments to be made electronically through the Government's payment system at Pay.gov.¹⁴ For payments made by check outside of an REC, applicants mailed the checks to the Coast Guard by standard mail. With the proposed rule, the Coast Guard would still accept payment by check, but applicants would be required to use a bank ACH payment through Pay.gov. Applicants who mailed checks to the Coast Guard would save the postage cost with this proposed rule. The Coast Guard expects that applicants have access to the requisite technology to pay credentialing fees through Pay.gov. According to the U.S. Census Bureau's 2021 American Community Survey, approximately 95 percent of American households have one or more electronic devices such as a desktop or laptop computer, a smartphone, or tablet.¹⁵ This included over 90 percent of households that have an internet subscription that would facilitate access to Pay.gov.¹⁶ Even if an applicant or household does not have access to a computer at home or the internet individually, in this case, the Coast Guard assumes for the purpose of this analysis, that an applicant may access a smartphone, cellphone, or computer to submit an application to the Coast Guard without incurring a cost.¹⁷ The Coast Guard requests comments from the public on the requirement for applicants to pay MMC fees solely using Pay.gov, to register with Pay.gov, and their ability to access the internet for this purpose. Additionally, with this proposed rule, we assume that a small population of applicants affected by part 10.219(d) of this proposed rule, who submit applications at RECs currently, would choose to continue to visit RECs and would continue to print receipts as proof of payment. However, the Coast Guard is not able to determine the number of applicants who would continue to visit RECs for this purpose. Therefore, there is an unquantifiable cost of printing the receipts for a small number of applicants who visit RECs to submit their applications. This would result in a small, unknown reduction in the total estimated cost savings of this proposed rule. The Coast Guard requests comments from the public on the number of applicants who choose to visit RECs with this proposed rule and their ability to print receipts at home when they make fee payments using Pay.gov.

¹⁴ Pay.gov accepts three payment types: credit card, prepaid card, and ACH payments. The Coast Guard does not collect data on the usage of prepaid cards for applicants who use Pay.gov. The Coast Guard also did not estimate a cost (and subsequent cost savings) to obtain these cards in this analysis because applicants can obtain these cards when they are at grocery stores or other locations without making a separate trip to specifically obtain the cards. In this analysis, we assume for the unknown number of applicants who choose to use a prepaid card to pay fees, already possess the card. We request comments from the public on the use of prepaid cards with Pay.gov.

¹⁵ U.S. Census Bureau, American Community Survey 2021, S2801 Types of Computers and internet Subscriptions: ACS 1-year Estimates Subject Tables, Types of Computers, https://data.census.gov/table?q=Computer+and+internet+Use&tid=ACSST1Y2021.S2801.

¹⁶ U.S. Census Bureau, American Community Survey 2021, S2801 Types of Computers and internet Subscriptions: ACS 1-year Estimates Subject Tables, Types of internet Subscriptions, https://data.census.gov/table?q=Computer+and+internet+Use&tid=ACSST1Y2021.S2801.

¹⁷ The Coast Guard acknowledges that there may be a small portion of applicants in the affected population who may not own a computer or have access to the internet to submit a MMC payment. Readers can access these websites for further information on access to the internet and the ownership of mobile phones in the United States: https://www.pewresearch.org/internet/fact-sheet/internet-broadband/ and https://wwww.pewresearch.org/internet/fact-sheet/mobile/.

Applicants may visit an REC for many reasons; for example, to take an examination, to ask questions about the application process, submit an application, pay the mandatory fees, obtain an oath from an authorized individual, or for other reasons. This is notable in the following cost savings analysis, because the Coast Guard does not include travel cost savings estimates for the affected applicants in our analysis of the impact of the proposed change to § 10.219(d). The Coast Guard reasons that, although it is possible for applicants to visit RECs exclusively to pay MMC fees, the Coast Guard does not retain data on the number of applicants who do so. In practice, the Coast Guard assumes applicants do not visit an REC to solely pay the fees. Therefore, the Coast Guard cannot attribute travel costs to applicants who pay the mandatory fees in person at an REC. For example, applicants may visit RECs to ask questions about the application process and may decide to pay the fees during the same visit. Or applicants may visit RECs to obtain an oath, not realizing that RECs accept in-person payment, and may decide to pay the fees during this visit. The Coast Guard also assumes that applicants pay the mandatory fees at one time.

The proposed requirement for applicants to pay MMC fees electronically through Pay.gov would eliminate the flexibility to pay these fees by cash, and money order, by standard mail, and directly at an REC (see footnote number 13). However, with Pay.gov, the Coast Guard believes applicants would find this payment method to be more convenient and secure because applicants would be able to pay MMCs fees from their home instead of traveling to an REC and expending the time and money by making a payment in person, as we discuss later in this analysis. The Coast Guard acknowledges that there may be a small subset of the applicant population that would still prefer to pay MMC fees in person instead of through Pay.gov after an effective final rule. The Coast Guard requests comments from the public on how the proposed removal of the payment options (cash and money orders) and in-person payments at RECs affects applicants who currently use these payment methods to pay MMC fees.

The Coast Guard collects data for all payment transactions including transactions for original MMC applications. Between 2015 and 2019, the Coast Guard recorded an annual average of 1,167 credit card transactions for original applications made in person by applicants at an REC. It also recorded an average annual of 8,791 credit card transactions for other fees for a total average annual of 9,958 credit card transactions over these 5 years. During the same period, the Coast Guard recorded an average annual of 39 cash payment transactions for original applications made in person by applicants at an REC. It also recorded an average annual of 252 cash transactions for other fees for a total average annual of 291 cash transactions for these 5 years. Therefore, the total average annual number of transactions made in person was approximately 10,249 over the 5-year time period.

The NMC estimates it takes applicants approximately 5 minutes, or 0.083 hours (rounded), to complete a payment through Pay.gov. The NMC estimates it takes a certain amount of time for applicants to make in-person application payments at an REC. For applicants who pay by credit card, the NMC estimates it takes approximately:

• 8 minutes, or approximately 0.13 hours (rounded), to enter RECs due to security checks;

• 3.5 minutes, or approximately 0.06 hours (rounded) to wait in line for a clerk; and

• 7.5 minutes, or approximately 0.13 hours (rounded) to make the payment and complete the transaction, for a total of approximately 0.32 hours.

Therefore, the net amount of time (time difference) applicants would save by making payments electronically rather than by credit card in person is approximately 0.237 hours (0.32 − 0.083 hours).

For applicants who pay by cash, the NMC estimates it takes approximately:

• 8 minutes, or approximately 0.13 hours (rounded) to enter RECs due to security checks;

• 3.5 minutes, or approximately 0.06 hours (rounded) to wait in line for a clerk; and

• 6.0 minutes, or approximately 0.10 hours to make the payment and complete the transaction, for a total of approximately 0.29 hours.

Therefore, the net amount of time applicants would save from making payments electronically rather than making cash payments in person is approximately 0.207 hours (0.29 − 0.083 hours).

The payment time for Pay.gov does not account for the time to create a personal account on Pay.gov. Individual payments may be made without creating an account. Pay.gov provides the same capabilities to pay credentialing and other fees and obtain a receipt without creating an account. For this analysis, the Coast Guard assumes individuals will not create an account since credentialing fees are typically only paid once every five years aligning with the validity of a mariner credential. Using Pay.gov infrequently does not necessitate the need to create an account. The Coast Guard requests comment on this assumption and whether Pay.gov users would create an account to pay credentialing fees.

Anyone meeting the citizenship requirement under 46 CFR 10.221 and of an eligible age can apply for an MMC, regardless of their current employment status. For this regulatory analysis, the Coast Guard assumed applicants for an original MMC are currently employed (this would be for original applications where an oath is currently required); this allows the Coast Guard to construct a cost savings analysis, because we can then obtain applicants' wage rates, the labor time, and the cost savings associated with the removal of the in-person payment option.

Additionally, because the Coast Guard does not know the current occupations of individuals who apply for an original MMC and pay fees in person at an REC, the Coast Guard used the Bureau of Labor Statistics' (BLS) “Occupational and Employment Statistics” database and May 2021 wage estimates to obtain the general occupational code (BLS code 00-0000) for all civilian workers in the U.S., which is the largest occupational category of workers the Coast Guard found at BLS' website.¹⁸ The unloaded mean hourly wage rate for this labor category is $28.01. The Coast Guard does not collect employment data on applicants; nevertheless, the Coast Guard acknowledges that the assumption of employment may lead to an overestimation of cost savings for the proposed rule.

¹⁸ The BLS defines civilian workers to be “private industry workers and State and local government workers.” This includes individuals in the private nonfarm economy excluding households and the public sector excluding the Federal Government. Readers can view BLS' glossary of terms at https://www.bls.gov/bls/glossary.htm. Readers can access BLS' website at https://www.bls.gov/oes/2021/may/oes_nat.htm#00-0000 to obtain information about the wages used in this analysis. The Coast Guard accessed BLS' web page in the summer of 2022.

Because fees are also paid in person at an REC mostly by applicants other than original applicants, the Coast Guard used the BLS occupational category, Water Transportation Workers (BLS code 53-5000) to obtain the unloaded mean hourly wage rate for all applicants who pay fees in person at RECs. The unloaded mean hourly wage rate in 2021 for this occupational category is $38.84.

Because the Coast Guard used different occupational categories, this required us to use two load factors to obtain an average load factor.

To obtain a loaded mean hourly wage rate for civilian workers, the Coast Guard used BLS' “Employer Costs for Employee Compensation” database to calculate the load factor for this group of workers in the U.S. The Coast Guard used the same database to obtain a load factor for the occupational category of Water Transportation Workers. The Coast Guard then used the average load factor for these two groups of workers in the U.S. The Coast Guard applied the load factor to the average unloaded mean hourly wage rate using fourth quarter data from 2021 for all applicants. The Coast Guard determined the average load factor for the two occupational categories to be about 1.47, rounded.¹⁹ The Coast Guard then multiplied this average load factor by the unloaded mean hourly wage rate for applicants, who pay fees in person at RECs, and obtained a loaded mean hourly wage rate of approximately $57.09, rounded ($38.84 × 1.47).

¹⁹ A loaded mean hourly wage rate is what a company pays per hour to employ a person, not the hourly wage an employee receives. The loaded mean hourly wage rate includes the cost of non-wage benefits (health insurance, vacation, etc.). The Coast Guard calculated the load factor by accessing BLS' website at https://www.bls.gov/ and selecting the topic “Subjects” from the menu on this web page. From the categories listed on this page, under the category titled “Data Tools,” the Coast Guard selected the category “Top Picks, One Screen, Multi-Screen, and Maps.” On the next page titled, “Databases, Tables, and Calculators by Subject,” the Coast Guard selected used the category “Pay and Benefits”. Under the category, ”Employer Costs for Employee Compensation”, we selected the ”Multi-Screen” feature. This took us to https://www.bls.gov/cgi-bin/dsrv?cm. At this page, titled, “Create Customized Tables”, or screen 1, the Coast Guard then selected the category of “Civilian Workers”. At screen 2, the Coast Guard first selected the category “Total Compensation,” then we continued to select “All Workers” at screens 3, 4, and 5. At screen 6, for “Area” the Coast Guard selected “United States.” At screen 7, the Coast Guard selected the category “Cost of Compensation.” At screen 8, the Coast Guard selected the category “not seasonally adjusted.” At screen 9, the Coast Guard selected the series ID, CMU1010000000000D. The Coast Guard used the “Cost of Compensation” for quarter 4 of 2021, or $40.35. The Coast Guard performed this process again to obtain the value for “Wages and Salaries,” which we selected on screen 2. On screen 9, the Coast Guard selected the series ID CMU1020000000000D and obtained a value of $27.83. The Coast Guard divided $40.35 by $27.83 and obtained a load factor of 1.45, rounded. The Coast Guard used the same methodology to obtain the load factor for the 5 occupational categories for applicants other than original applicants. However, instead of using the category of “Civilian Workers”, the Coast Guard selected “Private Industry Workers” at screen 1, “Transportation and Material Moving Occupations” at screen 3, “All Workers” at screens 4 and 5, “United States” at screen 6, “Cost of Compensation” at screen 7, “not seasonally adjusted” at screen 8, and the series ID at screen 9, CMU 2010000520000D. The Coast Guard again used the “Cost of Compensation” for quarter 4 of 2021, or $33.57. The Coast Guard then selected “Wages and Salaries,” at screen 2. On screen 9, the Coast Guard selected the series ID CMU2020000520000D and obtained a value of $22.75. The Coast Guard divided $33.57 by $22.75 and obtained a load factor of 1.48, rounded. The Coast Guard then used the average of these two load factors, which is 1.47, rounded. The Coast Guard accessed this BLS' website in June 2023.

Applicants (including original applicants) who currently pay the fees by credit card at an REC would be required to pay them electronically using Pay.gov under this proposed rule. This would affect approximately 9,958 applicants annually. The Coast Guard estimates the undiscounted cost for these applicants to be approximately $47,186 annually (9,958 × $57.09 × 0.083 hours). The Coast Guard estimates the undiscounted baseline cost for applicants who currently pay the fees by credit card in person at an REC to be approximately $181,921 annually (9,958 × $57.09 × 0.32 hours), rounded. Therefore, the Coast Guard estimates the undiscounted net cost savings to applicants who currently pay the fees in-person by credit card and would be required to pay them electronically through Pay.gov to be approximately $134,735 annually ($181,921 − $47,186), rounded.

Similarly, applicants (including original applicants) who currently pay the mandatory fees by cash at an REC would be required to pay them electronically using Pay.gov under this proposed rule. This would affect approximately 291 applicants annually. The Coast Guard estimates the undiscounted cost for these applicants to be approximately $1,379 annually (291 × $57.09 × 0.083 hours). The Coast Guard estimates the undiscounted baseline cost for applicants who currently pay the fees by cash in person at an REC to be approximately $4,818 annually (291 × $57.09 × 0.29 hours), rounded. Therefore, the Coast Guard estimates the undiscounted net cost savings to applicants who currently pay the fees by cash and would need to pay them electronically through Pay.gov to be approximately $3,439 annually ($4,818 − $1,379), rounded. The Coast Guard estimates the total undiscounted net cost savings to 10,249 (9,958 by credit card + 291 by cash) applicants who currently pay the mandatory fees in-person by credit card and cash and would need to pay them electronically through Pay.gov to be approximately $138,174 annually ($134,735 by credit card + $3,439 by cash), rounded. See table 4.

Table 4—Summary of Undiscounted Cost Savings for Applicants Who Currently Pay in Person at an REC and Would Use Pay.gov With Proposed Rule
Item | Credit card users | Cash users
Current In-Person Transactions
Loaded Wage Rate | $57.09 | $57.09
Population | 9,958 | 291
Time Estimate | 0.32 | 0.29
Cost Estimate | 181,921 | 4,818
If In-Person Transactions Made Through Pay.gov
Wage Rate | 57.09 | 57.09
Population | 9,958 | 291
Time Estimate | 0.083 | 0.083
Cost Estimate | 43,805 | 1,280
Net Cost Savings | 134,735 | 3,438
Total Cost Annual Savings | $138,174
Note: Totals may not sum due to independent rounding.

Lastly, the proposed rule would create cost savings for applicants, other than original applicants, who paid mandatory fees by check or money order in the past and mailed the payment to the Coast Guard through standard mail, or USPS. Over the 7-year period from 2015 to 2021, the Coast Guard recorded an annual average of 12,638 payments (10,146 by check and 2,492 by money order) where an applicant used a check or money order. Because this regulatory analysis is in 2021 dollars, the cost of a forever stamp from the USPS in 2021 was $0.55.²⁰ With this proposed rule, applicants would still be able to use a check or money order to make mandatory fee payments with Pay.gov; however, payments made by check must be made with an ACH payment and for money orders, a prepaid card (see footnote number 15). The Coast Guard did not estimate cost savings for applicants who currently mail checks or money orders to the Coast Guard and would be required to use Pay.gov because we do not estimate that there would be a time difference between these two payment methods and Pay.gov. The total undiscounted cost for these payment types is approximately $6,951 annually, rounded. The proposed rule would create cost savings in the same amount annually. The Coast Guard estimates the total 10-year discounted cost savings for applicants who would no longer be able to mail a check or money order (cost savings would be from the cost of a forever stamp) to pay for mandatory fees would be approximately $48,820, rounded, using a 7 percent discount rate. The Coast Guard estimates the annualized cost savings would be approximately $6,951, rounded, using a 7-percent discount rate.

²⁰ Readers can access USPS' website at https://www.usps.com to find past postal rates or search online for USPS' “Postal News”.

In table 5, the Coast Guard presents the 10-year discounted cost savings to applicants who currently paid the fees in person and would be required to pay them electronically under this proposed rule and applicants who paid the fees by check or money order and sent their payments by standard mail to the Coast Guard. The Coast Guard estimates the total undiscounted cost savings for the electronic payment of fees by applicants would be approximately $145,125 annually, rounded ($138,174 from in-person payments + $6,951 from mailed checks and money orders). The Coast Guard estimates the total discounted 10-year cost savings for these applicants would be approximately $1.0 million, rounded, using a 7-percent discount rate. The Coast Guard estimates the annualized cost savings would be approximately $145,125, rounded, using a 7-percent discount rate.

Table 5—Estimated Cost Savings of Proposed Rule to Applicants Who Would Use Pay.gov (2021 Dollars, 10-Year Period of Analysis, 7- and 3-Percent Discount Rates)
Year | Net cost savings from cash and credit card payments | Cost savings from check and money order | Total cost savings to use Pay.gov | 7 Percent | 3 Percent
1 | $138,174 | $6,951 | $145,125 | $135,631 | $140,898
2 | 138,174 | 6,951 | 145,125 | 126,758 | 136,794
3 | 138,174 | 6,951 | 145,125 | 118,465 | 132,810
4 | 138,174 | 6,951 | 145,125 | 110,715 | 128,942
5 | 138,174 | 6,951 | 145,125 | 103,472 | 125,186
6 | 138,174 | 6,951 | 145,125 | 96,703 | 121,540
7 | 138,174 | 6,951 | 145,125 | 90,376 | 118,000
8 | 138,174 | 6,951 | 145,125 | 84,464 | 114,563
9 | 138,174 | 6,951 | 145,125 | 78,938 | 111,226
10 | 138,174 | 6,951 | 145,125 | 73,774 | 107,987
Total |  |  |  | 1,019,296 | 1,237,944
Annualized |  |  |  | 145,125 | 145,125
Note: Totals may not sum due to independent rounding.

Federal Government Cost Savings for Proposed Change to § 10.219(d)

This proposed rule would create cost savings for the Coast Guard in the amount of time that would be saved by REC personnel who would no longer process in-person payment transactions. The NMC estimates it takes fee clerks at an REC approximately 5 minutes, or 0.083 hours (rounded), to process credit card payments. Similarly, the NMC estimates it takes mandatory fee clerks approximately 25 minutes, or 0.42 hours (rounded), to process cash payments. This includes the processing time the fee clerk takes to go to a bank and obtain a money order in order to complete the payment transaction. There is no difference in the time it takes for a fee clerk at an REC to process a check mailed to the Coast Guard and the time it would take with this proposed rule to process an ACH payment. There is also no difference in the time it takes for a fee clerk to process a money mailed to the Coast Guard and the time it would take with this proposed rule to process a prepaid card used from a money order. Therefore, the Coast Guard does not estimate cost savings for the Federal Government from not processing checks and money orders mailed to the Coast Guard by applicants.

A fee clerk at an REC has a Federal Government General Schedule (GS) grade level of GS-5. The Office of Personnel Management (OPM) lists the hourly pay for Federal Government employees who work in the United States.²¹ Because RECs are geographically dispersed across the U.S., the Coast Guard used the hourly wage rate for the category “Rest of the United States” from OPM's pay tables. OPM reports the hourly pay for a person with the grade level of a GS-5, step 5 (the midpoint of the pay grade) as $19.15 in 2021. The Coast Guard calculated the share of total compensation of Federal Government employees to account for the non-wage benefits to determine the load factor that the Coast Guard applied to the hourly wage rate of employees. In a Congressional Budget Office (CBO) report titled “Comparing the Compensation of Federal and Private-Sector Employees, 2011 to 2015,” the CBO reports total compensation of Federal Government employees to be approximately $64.80, and wages and salaries to be approximately $38.30.²² From these values, the Coast Guard determined the load factor to be about 1.69, rounded ($64.80 ÷ $38.30). The Coast Guard then multiplied this value by the hourly wage rate of $19.15 to obtain a loaded hourly wage rate of $32.36, rounded, for a GS-5, step 5 fee clerk at an REC.

²¹ Readers can view the General Schedule of salaries for Federal Government employees at https://www.opm.gov/policy-data-oversight/pay-leave/salaries-wages/salary-tables/21Tables/html/RUS_h.aspx. The Coast Guard accessed this web page in the fall of 2022.

²² Readers can view the report at, https://www.cbo.gov/system/files/115th-congress-2017-2018/reports/52637-federalprivatepay.pdf. The Coast Guard accessed this report in the fall of 2022.

The Coast Guard estimates the baseline undiscounted cost for REC fee clerks to process credit card transactions to be approximately $26,749 annually, rounded ($32.36 × 9,958 credit card transactions annually × 0.083 hours). The Coast Guard estimates the baseline undiscounted cost for REC payment clerks to process cash transactions to be approximately $3,955 annually, rounded ($32.36 × 291 cash transactions annually × 0.42 hours). RECs would no longer accept in-person payments with this proposed rule, these costs combined would become cost savings to the Coast Guard of approximately $30,704 annually, rounded ($26,749 + $3,955). See table 6.

Table 6—Summary of Estimated Annual Undiscounted Cost Savings to the Coast Guard From Proposed Change to § 10.219(d)
Applicants' payment type | Estimate of time saved (hours) | Wage rate | Cost savings estimate
Credit Card Payment | 0.083 | $32.36 | $26,749
Cash Payment | 0.42 | 32.36 | 3,955
Total Annual Cost Savings |  |  | 30,704

In table 7, the Coast Guard estimates the total discounted 10-year cost savings of this proposed rule to the Coast Guard to be approximately $215,655, rounded, using a 7-percent discount rate. The Coast Guard estimates the annualized cost savings to be approximately $30,704, rounded, using a 7-percent discount rate.

Table 7—Estimated Cost Savings to the Coast Guard From Proposed Change to § 10.219(d) (2021 Dollars, 10-Year Period of Analysis, 7- and 3-Percent Discount Rates)
Year | Cost savings | 7 Percent | 3 Percent
1 | $30,704 | $28,696 | $29,810
2 | 30,704 | 26,818 | 28,942
3 | 30,704 | 25,064 | 28,099
4 | 30,704 | 23,424 | 27,280
5 | 30,704 | 21,892 | 26,486
6 | 30,704 | 20,460 | 25,714
7 | 30,704 | 19,121 | 24,965
8 | 30,704 | 17,870 | 24,238
9 | 30,704 | 16,701 | 23,532
10 | 30,704 | 15,609 | 22,847
Total |  | 215,655 | 261,914
Annualized |  | 30,704 | 30,704
Note: Totals may not sum due to independent rounding.

Cost Savings Analysis for Proposed Change to § 10.225(c), Removal of the Oath Requirement

The Coast Guard proposes to remove the current requirement in § 10.225(c) for applicants for an original MMC to take an oath administered by any Coast Guard-designated individual or any person legally permitted to administer oaths in the jurisdiction where the person taking the oath resides. Typically, if an oath is not administered by a designated Coast Guard official, it is administered by a notary public.²³ When an individual applies for an MMC, the individual must complete Form CG-719B. They must either submit this form by email, in person, or send it by standard mail to an REC.²⁴ Currently, if applicants use a notary public to administer their oath, the notary must sign the form along with the applicant. The signature of the applicant is a testament to the validity and accuracy of the information the individual is providing to the Coast Guard and is an attestation to the statements in Section 4, “Mariner's Consent/Certification,” of the form.

²³ An oath an original applicant must take is a pronouncement that an original applicant will abide by the rules and regulations aboard a vessel, faithfully execute his or her duties, and obey the superior officers of the vessel.

²⁴ This form is part of a currently-approved OMB ICR with a control number 1625-0040 and a title of “Applications for Merchant Mariners Credentials and Medical Certificates.” Readers can access NMC's website at https://www.dco.uscg.mil/national_maritime_center/ to view this form and obtain information about the application process. The Coast Guard accessed this web page in the summer of 2022.

With this proposed rule, original applicants would no longer need the signature of the notary public on Form CG-719B. This would not change the current OMB-approved ICR (OMB control number 1625-0040) or alter its burden estimates, because the signature of the notary public on the form is a burden that amounts to a few seconds of time. With the proposed rule, an applicant's signature alone would be sufficient for Form CG-719B.

Currently, applicants for an original MMC who submit their application in person at an REC can also take the oath there. There is no cost to original applicants who take the oath before a designated official at an REC and therefore, no cost savings. However, original applicants, who do not visit an REC to submit their application, would need to seek the service of a notary public elsewhere.

Original applicants can obtain notary public service at a bank or another location where there are notary public services. The Coast Guard assumes there is no cost for a notary public service at a bank if an individual has a bank account there. Other establishments that provide legal services may also provide notary public services, in addition to State and local Government offices, including shipping companies.²⁵ However, these offices and establishments usually charge for the public notary service.

²⁵ The Coast Guard acknowledges that Credit Unions, similar to banks in the U.S., may also offer notary public services, free of charge, for its members.

Therefore, as mentioned previously in this RA, the Coast Guard presents two assumptions that will each generate different cost savings estimates for the proposed change to § 10.225(c). With each assumption, the Coast Guard assumes all applicants who apply for an original MMC are currently employed:

• Assumption 1—Approximately 13,951 individuals who applied for an original MMC and took an oath before a designated official who administers the oath, or a notary public at a bank where they have an account free of charge. Assumption 2—Half the individuals, or approximately 6,976, who applied for an original MMC took an oath along with a notary public service at a bank, and half obtained an oath elsewhere (perhaps at a state office or an establishment that provides legal services including notary public services), where a cost would be associated with the notary public service.

Earlier in this analysis, the Coast Guard established that one payment transaction represents one original application with one oath. Presumably, original applicants seek a notary public service at a bank, where it is free of charge; this is our basis for Assumption 1. However, because the Coast Guard does not have data on where original applicants obtained an oath along with a notary public service, it is possible that a certain number of original applicants obtained an oath along with a notary public service outside of a bank; this is our basis for Assumption 2. As such, the Coast Guard divided the population evenly in Assumption 2.

With the Coast Guard's assumption that original applicants who apply for MMCs are employed, this allows us to estimate the cost savings associated with the proposed change to § 10.225(c) as we did for the proposed change to § 10.219(d). Because original applicants who apply for MMCs are members of the general public and not yet mariners, the Coast Guard does not collect data on where these original applicants reside. Therefore, the Coast Guard does not know where original applicants reside relative to the location of banks or bank branches, or other establishments that offer notary public services. This required the Coast Guard to estimate the approximate distance original applicants would need to travel to get to a bank for Assumption 1, so the Coast Guard then would be able to estimate the cost savings for them, because they no longer would need to travel to a bank to obtain a notary public service. To perform this analysis, the Coast Guard required several pieces of information to determine the distance original applicants must travel to a bank or bank branch (and a notary public service in Assumption 2):

1. The number of bank branches in the United States;

2. The total U.S. population and the U.S. adult population; and

3. The number of square miles of the United States.

The St. Louis Federal Reserve Bank compiles and reports U.S. economic data (Federal Reserve Economic Data, or “FRED”). One of the data items it reports is the number of bank branches in the United States. FRED shows that there are 30.46 bank branches per 100,000 adults in the United States.²⁶

²⁶ Readers can access the St. Louis Federal Reserve's “FRED” website at https://fred.stlouisfed.org/#. At this page, readers should use the search feature and type the words “bank branches” in the search field. The resulting web page will show a graph of the data and the value that the Coast Guard used for this analysis. The Coast Guard accessed this web page in the summer of 2022. With the acknowledgement that Credit Unions also offer notary public services (see footnote number 15), the Coast Guard did not include them in this analysis because the National Credit Union Administration (NCUA) reports the total number of Federally-insured Credit Unions in its “Quarterly Credit Union Data Summary 2002 Q2” in the United States (4,853 as of June 30, 2022) and not per a certain population or certain group of individuals as FRED reports it. Therefore, the Coast Guard cannot simply add the NCUA's number to FRED's number because we would be combining incongruent data. Readers can view this report at https://www.ncua.gov/files/publications/analysis/quarterly-data-summary-2022-Q2.pdf. The Coast Guard accessed this website in the summer of 2022. Readers should also note that the number of bank branches has been in decline since 2000. See the first link to the report by the Federal Reserve Bank of Cleveland in footnote number 29.

The U.S. Census Bureau in the U.S. Department of Commerce reports population data for the United States. As of July 1, 2021, the U.S. Census Bureau reports the U.S. population to be 331,893,745.²⁷ The U.S. Census Bureau reports the number of individuals below the age of 18 to be 22.2 percent of the total U.S. population.²⁸ Therefore, the number of adults in the United States (individuals who are 18 years of age or older) is approximately 258,213,334, rounded ((1−0.222) × 331,893,745). The Coast Guard divided this population by 100,000 to normalize the value to 100,000 (so it can be scaled to and combined with FRED's data) and obtained the value of approximately 2,582 (rounded).

²⁷ For more information U.S. census statistics, readers can access the U.S. Census Bureau's website at https://www.census.gov/quickfacts/fact/table/US/PST045221. The Coast Guard accessed this web page in the summer of 2022.

²⁸ ibid.

To determine the number of bank branches for every adult in the U.S., the Coast Guard multiplied 30.46 (number of bank branches) by 2,582 to obtain approximately 78,648 (rounded) bank branches.

Finally, as of 2020, the U.S. Census Bureau's Quick Facts shows the number of square miles in the United States to be 3,533,038, rounded.²⁹ The Coast Guard then divided this value by 78,648 bank branches to obtain the number of bank branches per square mile in the United States, or approximately one bank branch for every 45 square miles, or an area of 6.7 by 6.7 miles. This is equivalent to approximately one bank branch every 6.7 miles.³⁰ The Coast Guard acknowledges that this methodology may not be completely representative of the geographic distribution of bank branches in the United States (the distribution of bank branches may change in the future considering the steady decline in its numbers, particularly since 2010); the distance we estimated is an approximation based on the known statistics we present in this analysis from different sources. The Coast Guard requests comments from the public on this methodology. Table 8 outlines the inputs used in these calculations.

²⁹ ibid.

³⁰ The Federal Reserve Bank of Cleveland reports the average distance to a bank branch in urban and rural areas of the United States to be about 1.5 miles and 4.3 miles, respectively, in 2020 (an average of about 2.9 miles combined), which is significantly less than the distance we calculated in this analysis. Readers can view the Cleveland Federal Reserve's report at this link, “Has Bank Consolidation Changed People's Access to a Full-Service Bank Branch?” (clevelandfed.org). In a working paper by the Federal Reserve Bank of Chicago, it reports the median distance traveled to a bank branch to be 5 miles on page 16 of the paper. Readers can view this paper at https://www.chicagofed.org/-/media/publications/working-papers/2023/wp2023-15.pdf?sc_lang=en. The Coast Guard accessed these links in July 2023.

Table 8—Summary of Inputs for the Proposed Change to § 10.225(c)
Inputs | Values
Number of bank branches in the United States | 30.46 (per 100,000 adults).
U.S. population | 331,893,745.
U.S. adult population (18 or older) | 258,213,334.
Number of square miles in the United States (land area) | 3,533,038.
Number of bank branches in the United States | 78,648.
Number of square miles per bank branch (and notary public service) | 45.

For this analysis, the Coast Guard assumed that 13,951 original applicants would travel the same distance of 6.7 miles to obtain a notary public service at a bank or bank branch. Using these data and assumptions, it is possible to construct a cost savings analysis based on the original applicants' travel time to a bank branch to obtain the service of a notary public.

The population of original applicants applying for an MMC who seek notary public services outside of an REC is approximately 13,951 annually (see Table 3). The Coast Guard does not collect data on how original applicants travel to a bank or a notary public service and acknowledges that original applicants can choose among different modes of transportation, including walking or taking public transportation, to do so. However, for the purpose of this analysis, the Coast Guard assumed original applicants use their personal vehicles to accomplish this task, which allows the Coast Guard to estimate the travel cost for original applicants.

To construct this analysis for Assumptions 1 and 2, the Coast Guard assumed that 13,951 original applicants would travel approximately 6.7 miles one way or about 13.4 miles round-trip to an establishment that has a notary public service. See table 9.

Table 9—Summary of Travel Distance for Original Applicants Who Obtain the Service of a Notary Public at a Location Other Than an REC (e.g., a Bank)
Number of original applicants | Distance traveled one way (miles) | Distance traveled round trip (miles)
13,951 | 6.7 | 13.4

The Coast Guard shows the cost-saving elements for Assumption 1 and 2 in table 10. The Coast Guard estimated that the 13,951 original applicants affected by the proposed change to § 10.225(c) would save the travel time or labor cost for travel (the value of travel time savings or VTTS), the mileage cost, and the cost of time waiting at a bank or a notary public service.³¹ The Coast Guard included these cost savings in both Assumption 1 and 2.

³¹ The Department of Transportation (DOT) has guidance on VTTS for individuals who use different modes of travel in the United States. The VTTS is divided into two categories, local and intercity travel. See table 1 on page 13 of the memorandum. Within these two categories, there are two subcategories, personal and business travel, in the first column of the table. Based on SME input from the NMC, applicants would most likely obtain an oath on their personal time. Therefore, we used the category, local personal travel. In the second column of the table, the Coast Guard used the category “surface modes (except high-speed rail)”. Therefore, we used the value of 50 percent of the mean hourly wage rate for the VTTS. Readers can access DOT's memorandum at https://www.transportation.gov/office-policy/transportation-policy/revised-departmental-guidance-valuation-travel-time-economic. At this link, to access the memorandum, readers should select the pdf document titled, “2016 Revised Value of Travel Time Guidance.pdf”. The Coast Guard accessed this link in July 2023.

Under Assumption 2, half of these original applicants, or about 6,976, would also save the cost of the time it takes to complete a payment transaction, either by credit card or by cash, at a notary public service. The Coast Guard assumed half of these original applicants currently pay by credit card and half by cash, for about 3,488 original applicants choosing each payment method.

The Coast Guard acknowledges that there is a greater concentration of banks and establishments with notary public services in urban and metropolitan areas of the United States. Additionally, considering that the population density of urban areas is greater than in rural areas, it is likely that the population of original applicants is higher in urban areas than in rural areas of the United States. Therefore, it is likely that a greater proportion of original applicants who apply for MMCs reside in urban and metropolitan areas and may travel shorter distances to reach these places, which would result in lower cost savings than the Coast Guard estimated in this analysis. Nevertheless, this analysis represents an analysis of averages because the Coast Guard does not know where original applicants who apply for MMCs reside. The Coast Guard acknowledges that bank branches (and notary public services) are not equally distributed in the United States; the travel distance of 6.7 miles we estimated in this analysis is an approximate distance to a bank branch or notary public service; the travel distance may vary for some applicants who reside in suburban and rural areas of the United States.

Table 10—Applicable Cost-Saving Elements for Assumptions 1 and 2 for the Proposed Change to § 10.225(c)
Cost savings element | § 10.225(c) Assumption 1 | § 10.225(c) Assumption 2
Travel time | Yes | Yes.
Mileage cost savings | Yes | Yes.
Waiting time at bank branch | Yes | Yes.
Waiting time at notary public service | No | Yes.
Time for payment transaction at notary public service | No | Yes.
Cost of notary public service | No | Yes.

In addition to the two main assumptions for the proposed change to § 10.225(c) that the Coast Guard presented earlier, we present a summary of the other assumptions (some of which we may have presented earlier in the analysis), that we included in the analysis for Assumptions 1 and 2:

1. Original applicants for an MMC are currently employed in another occupation;

2. Affected original applicants live approximately 6.7 miles from a bank branch or notary public;

3. Affected original applicants travel an equal distance of 6.7 miles to a bank branch or a notary public service;

4. The wait times and payment transaction times at bank branches and notary public are the same as wait times at an REC; and

5. Original applicants use their privately-owned vehicle to travel to a bank branch or a notary public service.

Cost Savings Analysis for Assumption 1 for the Proposed Change to § 10.225(c)

With Assumption 1, the Coast Guard assumed 13,951 original applicants currently obtain a notary public service for the purpose of the oath at a bank, where there is no charge for the service if original applicants have an account at the bank. Because the Coast Guard does not know where original applicants live in proximity to the location of bank branches, the Coast Guard assumed all 13,951 original applicants travel about 6.7 miles one-way or about 13.4 miles round-trip to a bank branch. Under this assumption, 13,951 original applicants would save the labor travel time or VTTS, the mileage cost, and the time waiting at a bank branch to obtain a notary public signature on Form CG-719B under this proposed rule.³²

³² For this analysis, the Coast Guard did not account for the time it would take an applicant to park at a bank branch or notary public service. The Coast Guard requests comments from the public on whether we should account for this time in the regulatory analysis, in addition to the travel time.

To obtain the time it takes to travel this distance, the Coast Guard first accessed the Department of Transportation's (DOT) website to access the National Highway Traffic Safety Administration's (NHTSA) web page to obtain the mean road speeds on all roads.³³ The 2015 report shows the free-flow speed estimates (mph) for three road classes: limited access, major arterial, and minor arterial roads/collector roads. The Coast Guard used the mean speed for the minor arterial/collector road class, which may be more representative of roads used by applicants. NHTSA estimates the mean speed for minor arterial/collector roads to be about 49.73 miles per hour (mph).³⁴ The Coast Guard then divided the distance of about 6.7 miles (one way) by 49.73 mph to obtain the time it takes to travel this distance, or approximately 0.13 hours, rounded. The Coast Guard then divided the round-trip distance of about 13.4 miles by 49.73 mph to obtain the time it takes to travel this distance, or approximately 0.27 hours, rounded. The Coast Guard recognizes that an unknown portion of applicants, who live in urban areas, may travel at lower speeds than applicants in suburban and rural areas of the United States to get to a bank branch or notary public service. As a result, travel speeds may be lower than the 49.73 mph speed we estimated in this regulatory analysis. The Coast Guard requests comments from the public on the travel speed, the roads, and travel distance we used in this analysis.

³³ At DOT's homepage, under the heading “Explore DOT,” the Coast Guard selected the topic “Roadways and Bridges.” At this page, under the heading “Other Associated Agencies,” the Coast Guard selected the NHTSA link. There is no direct link, so in the search feature, the Coast Guard typed the words “traffic survey.” The Coast Guard then selected the link titled “National Traffic Speeds Survey III: 2015 Traffic Tech.” One result will appear, or a pdf version of the report that the Coast Guard used in this analysis. Readers can access the report at, https://www.nhtsa.gov/sites/nhtsa.gov/files/traffic_tech/812489_tt-national-traffic-speeds-survey-iii-2015.pdf. The Coast Guard accessed this web page in the summer of 2022.

³⁴ Readers should view the classification of roadways by DOT's Federal Highway Administration (FHWA) to understand the types of roadways used in DOT's survey found in footnote number 34. The 2013 document describes the classification of roadways by the FHWA and is titled, “Highway Functional Classification Concepts, Criteria and Procedures”, which readers can find at https://www.fhwa.dot.gov/planning/processes/statewide/related/highway_functional_classifications/fcauab.pdf. The Coast Guard accessed this link in July 2023.

With this information, the Coast Guard then calculated the labor cost for all original applicants who currently expend the time to travel this distance to obtain a notary public service. Earlier, the Coast Guard established the loaded mean hourly wage rate for original applicants who apply for an MMCs to be approximately $40.61 (recall that this labor rate is for original applicants who need to take an oath; it is different than the labor rate for the mandatory fee portion of this analysis). Using the value of 50 percent for the VTTS for personal time (see footnote number 32), the Coast Guard calculated the labor cost for the time to travel the 13.4-mile round-trip distance for one original applicant to be approximately $5.48 ($40.61 × 0.50 × 0.27 hours). Therefore, the Coast Guard estimates the total undiscounted labor travel time cost or VTTS, for 13,951 original applicants would be approximately $76,452 annually, rounded (13,951 original applicants × $5.48). Next, the Coast Guard calculated the mileage cost for these original applicants to travel the round-trip distance. The Coast Guard used the General Services Administration's (GSA) reimbursement rates for original applicants who use their privately-owned vehicles.³⁵ The GSA reports the rate per mile to be $0.585. Using the round-trip distance of 13.4 miles, the Coast Guard estimates the cost for one individual to make this trip to be approximately $7.84, rounded (13.4 miles × $0.585). The Coast Guard estimates the total undiscounted travel or mileage cost for 13,951 original applicants would be approximately $109,376 annually, rounded (13,951 original applicants × $7.84).

³⁵ At GSA's home web page, the Coast Guard used the menu feature and selected the category titled, “Travel.” At this page, the Coast Guard selected the topic titled “POV Mileage.” The next page shows the results for “Privately Owned Vehicle (POV) Mileage Reimbursement Rates.” The Coast Guard used the category “If use of privately owned automobile is authorized or no Government-furnished automobile is available.” Readers can access this information at https://www.gsa.gov/travel-resources. The Coast Guard accessed this web page in the summer of 2022.

Lastly, the Coast Guard calculated the waiting time at a bank branch for 13,951 original applicants to obtain a notary public signature on Form CG-719B. Because the Coast Guard assumed that waiting times at RECs would be similar to waiting times at bank branches, we used the same waiting time that we used for original applicants who wait to pay the fees at an REC, or approximately 3.5 minutes (readers should refer to the earlier discussion of this estimate), or 0.06 hours, rounded. The Coast Guard estimates the total undiscounted cost for 13,951 original applicants who currently wait at bank branches for a notary public service to be approximately $33,993 annually, rounded (13,951 × $40.61 × 0.06 hours).

The Coast Guard estimates the total undiscounted cost for 13,951 original applicants affected by the proposed changes to § 10.225(c) and who currently travel to bank branches to obtain a free notary public service to be approximately $219,820 annually, rounded ($76,452 + $109,376 + $33,993). This estimate is for Assumption 1 of the analysis. Therefore, in this proposed rule, the Coast Guard estimates the total undiscounted cost savings to these original applicants, who would no longer need to obtain notary public service at bank branches, would be approximately $219,820 annually, rounded. See table 11.

Table 11—Summary of Undiscounted Cost-Saving Elements for Assumption 1 for the Proposed Change to § 10.225(c), 2021 Dollars
Cost savings element | Cost savings estimate | Population affected
Labor Travel Time Cost Savings (VTTS) | $76,452 | 13,951
Mileage | 109,376 | 13,951
Waiting Time at Bank Branch | 33,993 | 13,951
Total Annual Cost Savings | 219,820 |
Note: Readers should not add together the populations in the third column. Totals may not sum due to independent rounding.

The Coast Guard estimates the total discounted cost savings, under Assumption 1, over a 10-year period of analysis would be approximately $1.5 million, rounded, using a 7-percent discount rate. The Coast Guard estimates the annualized cost savings would be approximately $219,820, rounded, using a 7-percent discount rate. See table 12.

Table 12—Summary of Discounted Cost Savings of the Proposed Rule Under Assumption 1 for § 10.225(c) Only
[2021 Dollars, 10-year period of analysis, 7- and 3-percent discount rates]
Year | VTTS | Mileage | Waiting time at bank branch | Total cost savings | 7 Percent | 3 Percent
1 | $76,452 | $109,376 | $33,993 | $219,820 | $205,440 | $213,418
2 | 76,452 | 109,376 | 33,993 | 219,820 | 192,000 | 207,202
3 | 76,452 | 109,376 | 33,993 | 219,820 | 179,439 | 201,167
4 | 76,452 | 109,376 | 33,993 | 219,820 | 167,700 | 195,308
5 | 76,452 | 109,376 | 33,993 | 219,820 | 156,729 | 189,619
6 | 76,452 | 109,376 | 33,993 | 219,820 | 146,476 | 184,097
7 | 76,452 | 109,376 | 33,993 | 219,820 | 136,893 | 178,734
8 | 76,452 | 109,376 | 33,993 | 219,820 | 127,937 | 173,528
9 | 76,452 | 109,376 | 33,993 | 219,820 | 119,568 | 168,474
10 | 76,452 | 109,376 | 33,993 | 219,820 | 111,746 | 163,567
Total |  |  |  |  | 1,543,926 | 1,875,112
Annualized |  |  |  |  | 219,820 | 219,820
Note: Totals may not sum due to independent rounding.

Cost Savings Analysis for Assumption 2 for the Proposed Change to § 10.225(c)

Because the Coast Guard does not collect data on where original applicants obtain a notary public service, with Assumption 2, the Coast Guard assumed half of the original applicants who currently apply for an MMC obtain a notary public service at a bank branch free of charge and half at a notary public, where there is a fee for the service. The half of the affected population who currently obtain a notary public service at a location other than a bank branch under this assumption consists of approximately 6,976 original applicants. As in Assumption 1, 13,951 original applicants travel the same distance of about 6.7 miles one-way or about 13.4 miles round-trip to a bank branch or a notary public service. For the time and the associated labor cost, it does not make a difference if these original applicants travel to a notary public service rather than a bank branch; they still incur the same labor cost for the travel time as in Assumption 1. The Coast Guard estimated earlier this total undiscounted labor cost, or labor travel time cost (VTTS), for 13,951 original applicants to be approximately $65,151 annually, rounded.

Similarly, these original applicants incur a mileage cost. As in Assumption 1, it does not make a difference if they travel to a notary public service rather than a bank branch; they still incur a mileage cost. The Coast Guard estimated earlier the total undiscounted travel or mileage cost, for 13,951 original applicants, to be approximately $109,376 annually, rounded.

Again, as in Assumption 1, 13,951 original applicants incur the cost to wait at a bank branch or a notary public service. The Coast Guard estimates the total undiscounted cost for 13,951 original applicants who currently wait at bank branches or at a notary public service to be approximately $33,993 annually, rounded.

With Assumption 2, the Coast Guard added the cost for half of the original applicants, or about 6,976, who pay for the notary public service outside of a bank branch. Similar to the payment of mandatory fees presented earlier, the Coast Guard assumed original applicants pay for a notary public with either a credit card or cash. For this analysis, the Coast Guard assumed half of the original applicants who currently pay for a notary public pay by credit card and half by cash. For the approximately 3,488 original applicants who currently pay by credit card, the Coast Guard used the same time estimate for this method of payment as we did for the payment of fees earlier, or approximately 0.13 hours (7.5 minutes each). The Coast Guard estimated the total undiscounted cost for these original applicants who currently pay by credit card would be approximately $18,414 annually, rounded (3,488 × $40.61 × 0.13).

The Coast Guard estimated the time for original applicants who currently pay by cash to be approximately 0.10 hours (6.0 minutes each). For the approximately 3,488 original applicants who currently pay by cash, the Coast Guard estimated the total undiscounted cost would be approximately $14,165 annually, rounded (3,488 × $40.61 × 0.10).

The last of the five cost elements for Assumption 2 (which would become cost-saving elements with this proposed rule) is the cost for the notary public service itself. The Coast Guard obtained the cost for notary public services in the U.S. from the organization National Notary (NationalNotary.org). Readers should refer to footnote 11 for more information. This organization provides cost data for 2022 for notary public services throughout the United States, including Washington, DC and U.S. territories.

The Coast Guard included fees from all 50 states and Washington, DC in this analysis.³⁶ Because the organization provides a fee schedule for verbal oaths, the Coast Guard used these fees as a proxy for the signature of the notary public on Form CG-719B. The fee varies from state to state with the lowest amount being $1 and the highest $15. Ten states do not have a fee schedule or do not charge a fee altogether; nevertheless, the Coast Guard took the statistical average of the fees for all 50 states and Washington, DC, for an amount of approximately $5.14, rounded. The Coast Guard estimates the total undiscounted cost for original applicants in this assumption who pay for a notary public service to be approximately $35,855 annually, rounded (6,976 × $5.14).

³⁶ National Notary also includes fees for U.S. territories, with the highest amount being $20. The Coast Guard did not include the fees for U.S. territories in this analysis, because we have sufficient national data for this analysis.

The Coast Guard estimates the total undiscounted cost for original applicants in Assumption 2 for the proposed changes to § 10.225(c) in this proposed rule to be approximately $288,255 annually, rounded ($76,452 + $109,376 + $33,993 + $18,414 + $14,165 + $35,855). Therefore, the Coast Guard estimates the total undiscounted cost savings to original applicants who would no longer need to obtain a notary public service at bank branches or notary public services to be approximately $288,255 annually, rounded. See table 13.

Table 13—Summary of Undiscounted Cost-Saving Elements for Assumption 2 for the Proposed Change to § 10.225(c), 2021 Dollars
Cost-savings element | Unit inputs | Population affected | Cost-savings estimate
Labor Rate of Applicants | $40.61 | 13,951 |
Labor Travel Time (VTTS) | 0.27 hours | 13,951 | $76,452
Mileage Rate | $0.58 per mile | 13,951 | 109,376
Waiting Time at Bank Branch and Notary Service | 0.06 hours | 13,951 | 33,993
Payment by Credit Card | 0.13 hours | 3,488 of 6,976 | 18,414
Payment by Cash | 0.10 hours | 3,488 of 6,976 | 14,165
Avg. Notary Fee | $5.14 | 6,976 of 13,951 | 35,855
Total Annual Cost Savings |  |  | 288,255
Note: Readers should not add together the populations in the third column of the table. The individual population for each item less than 13,951 is a subset of the total affected population of 13,951. Readers should use the estimated loaded labor rate of $40.61 to obtain the cost savings estimate in the last column of the table, except for the notary fee. Totals may not sum due to independent rounding.

The Coast Guard estimates the total discounted cost savings under Assumption 2 over a 10-year period of analysis to be approximately $2.02 million, rounded, using a 7-percent discount rate. The Coast Guard estimated the annualized cost savings to be approximately $288,255, rounded, using a 7-percent discount rate. See table 14.

Table 14—Summary of Discounted Cost Savings of the Proposed Rule Under Assumption 2 for § 10.225(c) Only
[2021 Dollars, 10-year period of analysis, 7- and 3-percent discount rates]
Year | VTTS | Mileage | Waiting time at bank branch or notary service | Time to pay notary by cash or credit card | Notary cost | Cost savings | 7 Percent | 3 Percent
1 | $76,452 | $109,376 | $33,993 | $32,579 | $35,855 | $288,255 | $269,397 | $279,859
2 | 76,452 | 109,376 | 33,993 | 32,579 | 35,855 | 288,255 | 251,773 | 271,707
3 | 76,452 | 109,376 | 33,993 | 32,579 | 35,855 | 288,255 | 235,302 | 263,794
4 | 76,452 | 109,376 | 33,993 | 32,579 | 35,855 | 288,255 | 219,908 | 256,110
5 | 76,452 | 109,376 | 33,993 | 32,579 | 35,855 | 288,255 | 205,521 | 248,651
6 | 76,452 | 109,376 | 33,993 | 32,579 | 35,855 | 288,255 | 192,076 | 241,409
7 | 76,452 | 109,376 | 33,993 | 32,579 | 35,855 | 288,255 | 179,510 | 234,377
8 | 76,452 | 109,376 | 33,993 | 32,579 | 35,855 | 288,255 | 167,767 | 227,551
9 | 76,452 | 109,376 | 33,993 | 32,579 | 35,855 | 288,255 | 156,791 | 220,923
10 | 76,452 | 109,376 | 33,993 | 32,579 | 35,855 | 288,255 | 146,534 | 214,488
Total |  |  |  |  |  |  | 2,024,579 | 2,458,869
Annualized |  |  |  |  |  |  | 288,255 | 288,255
Note: Totals may not sum due to independent rounding.

As noted earlier, the cost savings that the Coast Guard estimated for Assumptions 1 and 2 for the proposed change to § 10.225(c) do not include the cost savings from the proposed change to § 10.219(d). However, in table 1 of this RA, where we present the total cost savings estimates of the proposed rule, the Coast Guard included the cost savings estimates for the proposed change to § 10.219(d), because the Coast Guard must add the cost savings from § 10.225(c) to the cost savings estimate for § 10.219(d). Also recall that only one of the two main assumptions of this analysis would hold. The Coast Guard presented two different scenarios, because we do not know where affected original applicants currently obtain a notary public service.

For Assumption 1 and including the cost savings estimates from the proposed change to § 10.219(d), the Coast Guard estimates the total undiscounted cost savings of the proposed rule to be approximately $364,945 annually, rounded ($219,820 from Assumption 1 and § 10.225(c) + $145,125 from § 10.219(d)). The Coast Guard estimated the 10-year total discounted cost savings of the proposed rule to be approximately $2.6 million, rounded, using a 7-percent discount rate. The Coast Guard estimated the annualized cost savings to be approximately $364,945, rounded, using a 7-percent discount rate. See table 15.

Table 15—Summary of Total Discounted Cost Savings of the Proposed Rule Under Assumption 1 (Includes Cost Savings From §§ 10.225(c) and 10.219(d)
[2021 Dollars, 10-year period of analysis, 7- and 3-percent discount rates]
Year | § 10.225(c) Cost savings | § 10.219(d) Cost savings | Total cost savings— Assumption 1 | 7 Percent | 3 Percent
1 | $219,820 | $145,125 | $364,945 | $341,070 | $354,316
2 | 219,820 | 145,125 | 364,945 | 318,757 | 343,996
3 | 219,820 | 145,125 | 364,945 | 297,904 | 333,977
4 | 219,820 | 145,125 | 364,945 | 278,415 | 324,249
5 | 219,820 | 145,125 | 364,945 | 260,201 | 314,805
6 | 219,820 | 145,125 | 364,945 | 243,178 | 305,636
7 | 219,820 | 145,125 | 364,945 | 227,270 | 296,734
8 | 219,820 | 145,125 | 364,945 | 212,401 | 288,091
9 | 219,820 | 145,125 | 364,945 | 198,506 | 279,700
10 | 219,820 | 145,125 | 364,945 | 185,520 | 271,553
Total |  |  |  | 2,563,222 | 3,113,056
Annualized |  |  |  | 364,945 | 364,945
Note: Totals may not sum due to independent rounding.

Readers should compare the total cost savings estimate and annualized cost savings estimate for the proposed rule in table 15 with the total cost savings estimate of the proposed rule for Assumption 1 in table 1.

For Assumption 2 and including the cost savings estimates from the proposed change to § 10.219(d), the Coast Guard estimates the total undiscounted cost savings of the proposed rule to be approximately $433,379 annually, rounded ($288,255 from Assumption 2 and § 10.225(c) + $145,125 from § 10.219(d)). The Coast Guard estimates the 10-year total discounted cost savings of the proposed rule for Assumption 2 to be approximately $3.0 million, rounded, using a 7-percent discount rate. The Coast Guard estimates the annualized cost savings to be approximately $433,379, rounded, using a 7-percent discount rate. See table 16.

Table 16—Summary of Total Discounted Cost Savings of the Proposed Rule Under Assumption 2 (Includes Cost Savings From §§ 10.225(c) and 10.219(d)
[2021 Dollars, 10-year period of analysis, 7- and 3-percent discount rates]
Year | § 10.225(c) Cost savings | § 10.219(d) Cost savings | Total cost savings— Assumption 2 | 7 Percent | 3 Percent
1 | $288,255 | $145,125 | $433,379 | $405,027 | $420,757
2 | 288,255 | 145,125 | 433,379 | 378,530 | 408,502
3 | 288,255 | 145,125 | 433,379 | 353,767 | 396,603
4 | 288,255 | 145,125 | 433,379 | 330,623 | 385,052
5 | 288,255 | 145,125 | 433,379 | 308,993 | 373,837
6 | 288,255 | 145,125 | 433,379 | 288,779 | 362,948
7 | 288,255 | 145,125 | 433,379 | 269,887 | 352,377
8 | 288,255 | 145,125 | 433,379 | 252,231 | 342,114
9 | 288,255 | 145,125 | 433,379 | 235,730 | 332,149
10 | 288,255 | 145,125 | 433,379 | 220,308 | 322,475
Total |  |  |  | 3,043,875 | 3,696,814
Annualized |  |  |  | 433,379 | 433,379
Note: Totals may not sum due to independent rounding.

Readers should compare the total cost savings estimate and annualized cost savings estimate for the proposed rule in table 16 with the total cost savings estimate of the proposed rule for Assumption 2 in table 1.

Including Federal Government cost savings, the Coast Guard estimates the 10-year total discounted cost savings of the proposed rule under Assumption 1 to be about $2.8 million ($2,563,222 from table 15 and $215,564 from table 7), rounded, using a 7-percent discount rate. We estimate the annualized cost savings to be approximately $395,650, rounded, using a 7-percent discount rate ($364,945 from table 15 + $30,704 from table 7). See table 17.

Including Federal Government cost savings, the Coast Guard estimates the 10-year total discounted cost savings of the proposed rule under Assumption 2 to be about $3.3 million ($3,043,875 from table 16 and $215,564 from table 7), rounded, using a 7-percent discount rate. We estimate the annualized cost savings to be approximately $464,084, rounded, using a 7-percent discount rate ($433,379 from table 16 + $30,704 from table 7). See table 17.

Table 17—Total Discounted Annualized Cost Savings of the Proposed Rule
[2021 Dollars, 10-year period of analysis, 7-percent discount rate]
| § 10.225(c) Cost Savings: Assumption 1 | § 10.225(c) Cost Savings: Assumption 2
§ 10.219(d) Cost Savings | $219,820 | $288,255
§ 10.219(d)—Applicants | 145,125 | 145,125
§ 10.219(d)—Federal Government | 30,704 | 30,704
Total cost savings under each Assumption (annualized) | 395,650 | 464,084
Note: Readers should add together the cost savings in each of the two columns separately under the individual Assumptions to obtain the total cost savings. Totals may not sum due to independent rounding.

Unquantifiable Benefits of the Proposed Rule

This proposed rule would create unquantifiable benefits for MMC applicants. This includes the flexibility to submit documents electronically contained in the proposed changes to §§ 1.03-15(h)(2)(i) and 10.219(i)(1). Because this would be an option in the future, the Coast Guard does not have data at this point to estimate the cost savings that would be associated with the electronic submission of documents, if applicants were to choose this option.

The use of Pay.gov would provide a benefit to applicants because it is a free and secure service that allows applicants to make payments to most Federal Government agencies. Pay.gov uses the latest industry-standard payment methods and encryption technology to safely collect, store, transmit, and protect applicants' personal information throughout the payment process. Applicants can access and make payments through Pay.gov 24 hours a day, 7 days a week, and every day of the year, including holidays.

In table 2 the Coast Guard lists the unquantifiable benefit where the proposed regulatory text changes would be more than minor grammatical changes.

Analysis of Alternatives

(1). Industry would continue to meet the current requirements in subchapter A, part 1 and subchapter B, parts 10-16 of title 46 of the CFR (current baseline without regulatory action).

This alternative represents the current state of the MCP with no updates to 46 CFR subchapter A, part 1 and subchapter B, parts 10-16. The Coast Guard rejected this alternative, because it would not require that applicants pay mandatory fees electronically through Pay.gov. This alternative would maintain all the current, estimated, undiscounted costs between $219,820 and $288,255 annually, rounded (see the estimated costs under Assumptions 1 and 2, respectively, in the preferred alternative). The Coast Guard would also continue to request applicants provide receipt of payment when using Pay.gov (e.g., attach receipt to applications and provide receipt for MCP services) although this is not required. Applicants would still have the option of paying mandatory fees in person at an REC through cash, check, credit card and money order. Although in-person payments would remain an option, these applicants would not realize potential cost savings by using Pay.gov. In-person and standard mail payments made by applicants maintains the options that currently exist, which some applicants may find more convenient (for in-person payments, perhaps as a customer service benefit) over payments by electronic means. We request comments from the public on the benefit of the Coast Guard maintaining these payment options for applicants. This alternative would also not result in time and cost savings to original applicants, who would still be required to take an oath before an authorized individual. Additionally, this alternative would not clarify existing regulatory text.

(2) The Coast Guard would update regulatory requirements to align with a new MCP IT system and update mandatory fees with an incentive for electronic payment.

With this alternative, the Coast Guard would replace the current MMLD database and would propose changes to 46 CFR parts 10 through 14 and 16 to increase electronic submission of documents to support the credentialing process. With this alternative, the Coast Guard would provide an incentive to applicants to electronically pay mandatory fees through Pay.gov. It would be beneficial to applicants, who would save time and money; however, the Coast Guard is unable to estimate a cost savings for this item under this alternative, because it would require a lengthy analysis of the Coast Guard's mandatory fee program.

The Coast Guard rejected this alternative, because the update would require additional regulatory action to allow for future changes in the system, and any changes to mandatory fees would require further study and analysis by the Coast Guard and would require the use of limited additional time and resources.

(3) The Coast Guard would update regulatory requirements to align with a new MCP IT system and require electronic payment, but would not address mandatory fees.

With this alternative, the Coast Guard would not propose to update the mandatory fees together with the requirement for the electronic payment of fees by individuals through a new MCP IT system. However, the Coast Guard kept the proposed requirement under the preferred alternative (proposed rule) for the electronic payment of fees by applicants saving them approximately $145,125 annually, rounded (see the analysis for the preferred alternative for the derivation of this estimate), because it would not be connected to a new MCP IT system.

The Coast Guard rejected this alternative, because the new system is at the beginning stages of development, and, as a result, the Coast Guard is unable to estimate the economic impact of this new system on applicants and companies. Therefore, the Coast Guard cannot accurately determine any adjustments to mandatory fees based on the new system capabilities, potential costs to support the system, or cost savings generated from the system.

(4) Preferred Alternative—Update 46 CFR subchapter A, part 1 and subchapter B, parts 10-16 to update regulatory requirements to align with a new MCP IT system, require the electronic payment of fees and the option of electronic submission of supporting documents for an MMC application, remove the requirement for an oath to be administered by an authorized individual, and make editorial and non-substantive changes that clarify existing regulatory text.

This is the preferred alternative because applicants would be required to pay mandatory fees electronically using Pay.gov, and the Coast Guard would create an option for electronic submission of documents to the Coast Guard. This would save MMC applicants time and money because they would no longer be paying these mandatory fees in person at an REC. However, this preferred option would remove the flexibility for applicants who wish to continue to pay the mandatory fees in person. We analyzed the time and cost difference between the different payment methods and the proposed requirement to use Pay.gov previously in this regulatory analysis.

This alternative also aligns with Department of the Treasury regulations for promoting efficient, effective cash management through improved billing, collection, deposit, and payment of funds. The Coast Guard also proposes to remove the requirement for an oath to be taken by original applicants when they submit their MMC application. This would also save time and money for original applicants who would no longer need to travel to a bank or a bank branch or a notary public service to have the oath administered. Lastly, the Coast Guard proposes to make numerous editorial changes to the affected CFR subchapters that would clarify existing regulatory text. The Coast Guard analyzed and presented the cost savings and other unquantifiable benefits associated with this alternative earlier in this RA.

B. Small Entities

Under the Regulatory Flexibility Act (RFA), 5 U.S.C. 601-612, we have considered whether this proposed rule would have a significant economic impact on a substantial number of small entities. The term “small entities” comprises small businesses, not-for-profit organizations that are independently owned and operated and are not dominant in their fields, and governmental jurisdictions with populations of less than 50,000.

Based on the analysis in section A, Regulatory Planning and Review, we found this proposed rule, if adopted, would not have a significant economic impact on a substantial number of small entities. Most provisions of this proposed rule would affect individuals who apply for an MMC and would not directly regulate small entities. These include provisions that would require electronic payment of merchant mariner credentialing fees in § 10.219(d), remove the requirement for an oath to be administered by an authorized official on Form CG-719B in § 10.225(c), and allow for the electronic submission of certain documents in § 1.03-15(h)(2)(i) for appeals involving course approvals and merchant mariner personnel issues and in § 10.219(i) for requests involving no-fee MMCs. Since individual members of the public that are applying for MMCs are not considered to be small entities under the RFA, we have found that no small entities are impacted by these provisions of the proposed rule.

One substantive change of this proposed rule would allow for electronic signature on Form CG-718A in §§ 14.307(a), (b), and (c) when a mariner completes a voyage. However, the Coast Guard is not changing the previously accepted method of a standard signature by pen and ink. Therefore, the owner or operator of a vessel and mariner may continue to choose this signature method, but a part of the population may also choose the option of an electronic signature. The Coast Guard estimates that these two methods take nearly the same amount of time and would not result in measurable cost savings either to the owner or operator of a vessel, who may be a small entity, or to the mariner if they choose the electronic signature method. The Coast Guard requests comments from the public on this assumption and if there is a time difference between a standard signature and an electronic signature.

Therefore, the Coast Guard certifies under 5 U.S.C. 605(b) that this proposed rule would not have a significant economic impact on a substantial number of small entities because based on our analysis, most of provisions of the proposed rule would affect applicants and not directly regulate or affect small entities. We determined that the time difference between the standard signature method and the option of the electronic signature method in §§ 14.307(a), (b), and (c), for those who choose this method, to be nearly the same and would not result in any measurable cost savings to vessel owners or operators, who may be small entities, and mariners.

C. Assistance for Small Entities

Under section 213(a) of the Small Business Regulatory Enforcement Fairness Act of 1996, Public Law 104-121, we offer to assist small entities in understanding this proposed rule so that they can better evaluate its effects on them and participate in the rulemaking. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

The Paperwork Reduction Act of 1995 (44 U.S.C. 3507(d)) requires the U.S. Coast Guard to consider the impact of paperwork and other information collection burdens imposed on the public. According to the 1995 amendments to the Paperwork Reduction Act, an agency may not collect or sponsor the collection of information, nor may it impose an information collection requirement unless it displays a currently valid OMB control number.

The Coast Guard has determined that the proposed rule would not result in a new collection nor modify an existing collection of information. Thus, this proposed rule would not change the burden in the collections currently approved by OMB under OMB Control Numbers 1625-0012 with a title of “Certificate of Discharge to Merchant Mariners” and 1625-0040 with a title of “Applications for Merchant Mariners Credentials and Medical Certificates.”

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

It is well settled that States may not regulate in categories reserved for regulation by the Coast Guard. It is also well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. See the Supreme Court's decision in United States v. Locke and Intertanko v. Locke, 529 U.S. 89, 120 S.Ct. 1135 (2000). Because this proposed rule involves the credentialing of merchant marine officers under 46 U.S.C. 7101, it relates to personnel qualifications for vessels subject to a pervasive scheme of federal regulation, and is therefore foreclosed from regulation by the States. Therefore, because the States may not regulate within these categories, this rule is consistent with the fundamental federalism principles and preemption requirements described in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866, as amended by Executive Order 14094, and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

If you are aware of voluntary consensus standards that might apply, please identify them by sending a comment to the docket using one of the methods listed in the ADDRESSES section of this preamble. In your comment, please explain why you think the standards might apply.

M. Environment

We have analyzed this proposed rule under Department of Homeland Security Management Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. A preliminary Record of Environmental Consideration supporting this determination is available in the docket. For instructions on locating the docket, see the ADDRESSES section of this preamble. This proposed rule would be categorically excluded under paragraphs L54 and L56 of Appendix A, Table 1 of DHS Instruction Manual 023-01-001-01, Rev. 1. Paragraph L54 pertains to regulations that are editorial or procedural. Paragraph L56 pertains to regulations concerning the training, qualifying, licensing, and disciplining of maritime personnel.

This proposed rule involves regulatory changes that are needed for implementation of a new information technology system that would replace the current MMLD database used by the Coast Guard to process mariner credentials. This new system features an electronic platform for activities such as mariners providing documents for applying for or maintaining mariner credentials, or submitting associated fees. In addition, the rule includes technical amendments, such as updates, to addresses and websites necessary for accessing or using MMLD. We seek any comments or information that may lead to the discovery of a significant environmental impact from this proposed rule.

List of Subjects

46 CFR Part 1

Administrative practice and procedure, Organization and functions (Government agencies), Reporting and recordkeeping requirements.

46 CFR Part 10

Penalties, Personally identifiable information, Reporting and recordkeeping requirements, Seamen.

46 CFR Part 11

Penalties, Reporting and recordkeeping requirements, Schools, Seamen.

46 CFR Part 12

Penalties, Reporting and recordkeeping requirements, Seamen.

46 CFR Part 13

Cargo vessels, Reporting and recordkeeping requirements, Seamen.

46 CFR Part 14

Oceanographic research vessels, Reporting and recordkeeping requirements, Seamen.

46 CFR Part 15

Reporting and recordkeeping requirements, Seamen, Vessels.

46 CFR Part 16

Drug testing, Marine safety, Reporting and recordkeeping requirements, Safety, Transportation.

For the reasons discussed in the preamble, the Coast Guard is proposing to amend 46 CFR parts 1, 10, 11, 12, 13, 14, 15, and 16 as follows:

Title 46—Shipping

PART 1—ORGANIZATION, GENERAL COURSE AND METHODS GOVERNING MARINE SAFETY FUNCTION

1. The authority citation for part 1 is revised to read as follows:

Authority: 5 U.S.C. 552; 14 U.S.C. 503; 46 U.S.C. 7701; 46 U.S.C. Chapter 93; Secs. 101, 888, and 1512, Pub. L. 107-296, 116 Stat. 2135; DHS Delegation No. 00170.1, Revision No. 01.3; § 1.01-35 also issued under the authority of 44 U.S.C. 3507; and § 1.03-55 also issued under the authority of 46 U.S.C. 3306(j).

2. Amend § 1.01-15 by revising paragraph (e) to read as follows:

§ 1.01-15 Organization; Districts; National Maritime Center.

* * * * *

(e) Applicants for merchant mariner credentials may apply to the Coast Guard National Maritime Center or any of the NMC detachments. Applicants may contact the National Maritime Center at 100 Forbes Drive, Martinsburg, West Virginia 25404, by telephone at 1-888-I-ASK-NMC (1-888-427-5662), by email at IASKNMC@uscg.mil, or online chat at website https://www.dco.uscg.mil/national_maritime_center/. A list of NMC detachment locations is available through the website.

* * * * *

3. Amend § 1.03-15 by:

a. Revising paragraph (h)(2)(i); and

b. In paragraph (h)(2)(ii), removing the period after the words “2703 Martin Luther King Jr. Avenue SE”.

The revision reads as follows:

§ 1.03-15 General.

* * * * *

(h) * * *

(2) * * *

(i) Appeals involving course approvals and merchant mariner personnel issues must be in writing and mailed or electronically submitted to the Office of Merchant Mariner Credentialing (CG-MMC), U.S. Coast Guard, Stop 7509, 2703 Martin Luther King Jr. Avenue SE, Washington, DC 20593-7509, by email to MMCPolicy@uscg.mil, or as prescribed by the Coast Guard.

* * * * *

PART 10—MERCHANT MARINER CREDENTIAL

4. The authority citation for part 10 is revised to read as follows:

Authority: 14 U.S.C. 503; 31 U.S.C. 9701; 46 U.S.C. 2101, 2103, 2110; 46 U.S.C. chapter 71; 46 U.S.C. chapter 73; 46 U.S.C. chapter 75; 46 U.S.C. 2104; 46 U.S.C. 7701, 8903, 8904, and 70105; Executive Order 10173; DHS Delegation No. 00170.1, Revision No. 01.3.

5. In part 10, revise the following references wherever they appear:

a. “his or her” to read “their”; and

b. “he or she” to read “they”.

6. Amend § 10.107 by:

a. Revising the definition of “Regional examination center or REC”; and

b. Adding a definition of “Written, writing, or in writing”.

The revision and addition read as follows:

§ 10.107 Definitions in subchapter B.

* * * * *

Regional examination center or REC means a field office of the National Maritime Center that performs activities as required by this subchapter on behalf of the National Maritime Center.

* * * * *

Written, writing, or in writing means handwritten in ink, mechanically or electronically printed, or any form of expression that can be read, reproduced, or later communicated including electronically submitted and stored information.

* * * * *

§ 10.203 [Amended]

7. Amend § 10.203 as follows:

a. In paragraph (b), remove the text, “, license, MMD, COR, or STCW endorsement”; and

b. In paragraph (c), remove the text, “an MMD and an MMC serve” and replace it with the text, “an MMC serves”.

8. Amend § 10.209 by:

a. In paragraph (a), removing the word “satisfies” and adding, in its place, the word “satisfy”;

b. Revising paragraphs (d) introductory text, (d)(1) through (d)(3); and

c. In paragraph (e)(3), removing the words “the applicant's fingerprints,”.

The revisions read as follows:

§ 10.209 General application procedures.

* * * * *

(d) The application may be submitted in a manner prescribed by the Coast Guard that may include in person, by mail, or other electronic means. A complete MMC application, which is described in §§ 10.223, 10.225, 10.227, 10.229, and 10.231 may include—

(1) The application, consent for National Driver Register (NDR) check, and oath, and the evaluation fee required by § 10.219 of this part;

(2) The applicant's continuous discharge book, certificate of identification, and MMC if expired;

(3) Proof, in a manner prescribed by the Coast Guard, which may include forms or other means, that the applicant passed the applicable vision, hearing, medical, or physical exam as required by subpart C of this part, or an unexpired medical certificate issued by the Coast Guard;

* * * * *

9. Amend § 10.211 by:

a. Revising paragraph (c);

b. In paragraph (f), removing the word “furnish” and adding, in its place, the word “furnishes”; and

c. In paragraph (i), removing the words “has applied” and adding, in their place, the words “have applied”.

The revision reads as follows:

§ 10.211 Criminal record review.

* * * * *

(c) Criminal Convictions. The Transportation Security Administration (TSA) will provide to the Coast Guard the applicant's FBI number and criminal record generated in the TWIC review process. This information will be used by the Coast Guard to determine whether the applicant has a record of any criminal convictions.

* * * * *

§ 10.217 [Amended]

10. In § 10.217(a), remove the text “http://www.uscg.mil/nmc”, and add, in its place, the text “https://www.dco.uscg.mil/national_maritime_center/”.

11. Amend § 10.219 by revising paragraphs (d) and (i)(1) to read as follows:

§ 10.219 Fees.

* * * * *

(d) Unless the Coast Guard provides additional payment options, fee payment must be for the exact amount and must be made by electronic payment in a manner specified by the Coast Guard. For information regarding current forms of electronic payment, go to the National Maritime Center's (NMC) website, https://www.dco.uscg.mil/national_maritime_center/.

* * * * *

(i) * * *

(1) An organization may submit a written request in a manner prescribed by the Coast Guard that may include mail, email, or electronic means to U.S. Coast Guard National Maritime Center, 100 Forbes Drive, Martinsburg, WV 25404, at email IASKNMC@uscg.mil, in order to be considered an eligible organization under the criteria set forth in paragraph (h) of this section. With the written request, the organization must provide evidence of its status as a youth-oriented, not-for-profit, charitable organization.

* * * * *

12. Revise § 10.223(c)(5) to read as follows:

§ 10.223 Modification or removal of limitations or scope.

* * * * *

(c) * * *

(5) Any expired MMC held by the applicant. If still valid at the time of application, the applicant must surrender the old, original credential to the Coast Guard within 30 days of issuance of the new credential. If requested at the time of submission, the old MMC may be returned to the applicant after cancellation.

* * * * *

13. Revise § 10.225(c) to read as follows:

§ 10.225 Requirements for original merchant mariner credentials.

* * * * *

(c) Oath. Every person who receives an original MMC must first solemnly swear or affirm, that they will faithfully and honestly, according to their best skill and judgment, without concealment or reservation, perform all the duties required by law and obey all lawful orders of superior officers. This affirmation remains binding for any subsequently issued MMC and endorsements added to the MMC, unless specifically renounced in writing.

§ 10.227 [Amended]

14. Amend § 10.227 as follows:

a. Remove the word “present” and add, in its place, the word “provide” wherever it appears;

b. Remove the word “Present” and add, in its place, the word “Provide” wherever it appears;

c. In paragraph (d)(4):

i. Remove the word “uncanceled” and add, in its place, the words “expired or uncanceled”; and

ii. Remove the word “photocopy” and add, in its place, the word “copy”;

d. In paragraph (e)(1)(iv), remove the words “license or”;

e. In paragraph (e)(5), remove the words “holds a currently valid” and add, in their place, the words “hold a currently valid”;

f. In paragraph (e)(6)(ii), remove the words “license or”;

g. In paragraph (h), remove the words “A license, MMD, COR, STCW endorsement, MMC, and any endorsements thereon, are” and add, in their place, the words “An MMC, and any endorsements thereon, is”; and

h. In paragraph (i)(1), remove the words “presentation of” and add, in their place, the words “providing evidence of”.

§ 10.231 [Amended]

15. Amend § 10.231 as follows:

a. In paragraph (c)(5):

i. Remove the word “uncanceled” and add, in its place, the words “expired or uncanceled”; and

ii. Remove the word “photocopy” and add, in its place, the word “copy”; and

b. In paragraph (d)(2), remove the word “was”, and add, in its place, the word “were”.

§ 10.232 [Amended]

16. Amend § 10.232 as follows:

a. In paragraph (a)(1), remove the word “presented” and add, in its place, the word “provided”;

b. In paragraph (a)(4), remove the word “licensed” and add, in its place, the word “credentialed”; and

c. In paragraph (d)(6), remove the word “license” and add, in its place, the word “credential”.

§ 10.233 [Amended]

17. Amend § 10.233 as follows:

a. In paragraph (a), remove the text “license, MMD, COR, or”;

b. In paragraph (b), after the words “made in writing” add the words “and provided in a manner specified by the Coast Guard”; and

c. In paragraph (c), after the word “Invalid”, add the words “or expired”.

§ 10.235 [Amended]

18. Amend § 10.235 by removing the text “, license, MMD, and COR” wherever it appears.

19. Amend Table 1 to § 10.239 by revising the row “MODU licenses” to read as follows:

§ 10.239 Quick reference table for MMC requirements.

* * * * *

Table 1 to § 10.239: Quick Reference Table for MMC Requirements

* * * * *

Endorsement category | Minimum age | Citizenship | Medical and physical exam | Experience | Recommendations and character check | Firefighting | Professional exam | Demonstration of professional ability | Recency of Service | First aid and CPR
* * * * * * *
MODU | § 11.201(e) Note: exceptions | U.S., § 10.221(a)(1) § 11.201(d) | § 10.302(a) | OIM: § 11.470 B.S.: § 11.472 BCO: § 11.474 ChEng: § 11.542 Asst. Eng: § 11.544 | N/A: Note exceptions in § 11.201(g) for original national or STCW endorsements | § 11.201(h): note exceptions | § 11.201(j); § 11.903; § 11.920 | N/A | original § 11.201 (c)(2) renewal § 10.227(e) | § 11.201(i).
* * * * * * *

§ 10.302 [Amended]

20. In § 10.302(a), remove the words “as appropriate” and add, in their place, the words “or as directed by the Coast Guard”.

§ 10.305 [Amended]

21. In § 10.305(c), remove the word “a” before the words “medical certificate”.

§ 10.404 [Amended]

22. Amend § 10.404 as follows:

a. Remove the text “, license, or document” wherever it appears; and

b. Remove the words “has witnessed” wherever they appear and add, in their place, the words “have witnessed”.

§ 10.405 [Amended]

23. In § 10.405, remove the words “has attained” wherever they appear and add, in their place, the words “have attained”.

§ 10.407 [Amended]

24. In § 10.407(g)(3), remove the text “paragraph (d)” and add, in its place, the text “paragraph (e)”.

§ 10.409 [Amended]

25. In § 10.409(e), remove the word “present” and add, in its place, the word “provide”.

PART 11—REQUIREMENTS FOR OFFICER ENDORSEMENTS

26. The authority citation for part 11 is revised to read as follows:

Authority: 14 U.S.C. 503; 31 U.S.C. 9701; 46 U.S.C. 2101, 2103, and 2110; 46 U.S.C. chapter 71; 46 U.S.C. 7502, 7505, 7701, 8906, and 70105; Executive Order 10173; DHS Delegation No. 00170.1, Revision No. 01.3. Section 11.107 is also issued under the authority of 44 U.S.C. 3507.

27. In part 11, revise the following references wherever they appear:

a. “his or her” to read “their”; and

b. “he or she” to read “they”.

§ 11.102 [Amended]

28. In § 11.102(a), remove the period after the text “2703 Martin Luther King Jr. Avenue SE”.

§ 11.201 [Amended]

29. Amend § 11.201 as follows:

a. In paragraph (a):

i. Remove the word “possesses” and add, in its place, the words “possess”; and

ii. Remove the words “him or her” and add, in their place, the word “them”;

b. In paragraph (c)(4), remove the word “has” and add, in its place, the word “have”;

c. In paragraph (g)(1), remove the text “license, merchant mariner document (MMD), or MMC” and add, in its place, the text “merchant mariner credential (MMC)”;

d. In paragraph (g)(2) remove the words “license, certificate of registry,” wherever it appears, and add, in their place, the text “MMC”; and

e. In paragraphs (h)(1), (i), and (k) remove the word “present” wherever it appears and add, in its place, the word “provide”.

§ 11.211 [Amended]

30. Amend § 11.211(c)(1) as follows:

a. Remove the words “or license” wherever they appear; and

b. Remove the words “licenses or”.

§ 11.217 [Amended]

31. Amend § 11.217(a) by removing the word “presents” and adding, in its place, the word “provides”.

§ 11.301 [Amended]

32. Amend § 11.301(g) by removing the words “of the license”.

§ 11.337 [Amended]

33. Amend § 11.337(a) by removing the word “present” and adding, in its place, the word “provide”.

§ 11.401 [Amended]

34. Amend § 11.401 as follows:

a. Remove the words “license or” wherever they appear; and

b. in paragraph (d), remove the word “present” and add, in its place, the word “provide”.

§ 11.402 [Amended]

35. Amend § 11.402 as follows:

a. In paragraph (c)(2), remove the words “is endorsed” and add, in their place, the words “are endorsed”; and remove the words “license or”; and

b. In paragraph (c)(3):

i. Remove the words “a license or” and add, in their place, the text “an MMC”; and

ii. Remove the words “mate's license or” and add, in their place, the word “mate's”.

§ 11.404 [Amended]

36. Amend § 11.404 as follows:

a. In paragraph (a)(2), remove the words “a license or” and add, in their place, the word “an”; and

b. In paragraph (b) introductory text, remove the words “or license”.

§ 11.405 [Amended]

37. Amend § 11.405(a) by removing the words “a license or” and adding, in their place, the word “an”.

§ 11.406 [Amended]

37. Amend § 11.406 as follows:

a. Remove the words “a license or” wherever they appear and add, in their place, the word “an”; and

b. In paragraph (c), remove the words “or license”.

§ 11.407 [Amended]

38. Amend § 11.407 as follows:

a. In paragraph (c), remove the words “a license or” and add, in their place, the word “an”; and

b. In paragraph (d), remove the words “or license”.

§ 11.412 [Amended]

39. Amend § 11.412 by removing the words “a license or” wherever they appear and adding, in their place, the word “an”.

§ 11.414 [Amended]

40. Amend § 11.414(a)(1)(iii) by removing the words “a license or” and adding, in their place, the word “an”.

§ 11.418 [Amended]

41. Amend § 11.418 by removing the words “a license or” wherever they appear and adding, in their place, the word “an”.

§ 11.420 [Amended]

42. Amend § 11.420(a) by removing the words “a license or” and adding, in their place, the word “an”.

§ 11.422 [Amended]

43. Amend § 11.422 as follows:

a. In paragraph (b)(4), remove the words “license or”; and

b. In paragraph (c), remove the words “or license”.

§ 11.424 [Amended]

44. Amend § 11.424 as follows:

a. In paragraph (a)(1), remove the words “a license or” and add, in their place, the word “an”; and

b. In paragraph (b), remove the words “license or”.

§ 11.425 [Amended]

45. Amend § 11.425 as follows:

a. Remove the words “a license or” wherever they appear and add, in their place, the word “an”; and

b. In paragraph (d), remove the word “presentation” and add, in its place, the words “providing evidence”.

§ 11.426 [Amended]

46. Amend § 11.426(a)(1) by removing the words “a license or” and adding, in their place, the word “an”.

§ 11.427 [Amended]

47. Amend § 11.427 as follows:

a. Remove the words “a license or” wherever they appear and add, in their place, the word “an”; and

b. In paragraph (d), remove the word “presentation” and add, in its place, the word “providing evidence”.

§ 11.428 [Amended]

48. Amend § 11.428(b) by removing the words “license or”.

§ 11.429 [Amended]

49. Amend § 11.429(c) by removing the words “license or”.

§ 11.433 [Amended]

50. Amend § 11.433(a) by removing the words “a license or” wherever they appear and adding, in their place, the word “an”.

§ 11.435 [Amended]

51. Amend § 11.435 as follows:

a. In paragraph (a)(1), remove the words “a license or” and add, in their place, the word “an”; and

b. In paragraph (a)(2), remove the words “license or”.

§ 11.437 [Amended]

52. In § 11.437(a)(3):

a. Remove the words “holding a license or” and add, in their place, the words “holding an”; and

b. Remove the words “this license” and add, in their place, the words “this MMC endorsement”.

§ 11.442 [Amended]

53. Amend § 11.442(a) by removing the words “a license or” wherever they appear and adding, in their place, the word “an”.

§ 11.444 [Amended]

54. Amend § 11.444(a)(2) by removing the words “a license or” and adding, in their place, the word “an”.

§ 11.446 [Amended]

55. Amend § 11.446 by removing the words “a license or” wherever they appear and adding, in their place, the word “an”.

§ 11.450 [Amended]

56. Amend § 11.450 as follows:

a. In paragraph (c), remove the words “licenses or”; and

b. In paragraph (d), remove the word “license” and add, in its place, the word “endorsement”.

§ 11.452 [Amended]

57. Amend § 11.452 as follows:

a. In paragraph (a):

i. Remove the words “license or”; and

ii. Remove the words “a license or” and add, in their place, the word “an”; and

b. In paragraph (b), remove the words “license or”.

§ 11.454 [Amended]

58. Amend § 11.454 as follows:

a. In paragraph (c), remove the word “presentation” and add, in its place, the words “providing evidence”; and

b. In paragraph (d), remove the words “a license or” and add, in their place, the word “an”.

§ 11.457 [Amended]

59. Amend § 11.457 as follows:

a. In paragraph (a), remove the word “present” and add, in its place, the word “provide”; and

b. In paragraph (b), remove the words “license or”.

§ 11.462 [Amended]

60. Amend § 11.462 by removing the words “a license or” wherever they appear and adding, in their place, the word “an”.

§ 11.464 [Amended]

61. Amend § 11.464 by removing the words “a license or” wherever they appear and adding, in their place, the word “an”.

§ 11.465 [Amended]

62. Amend § 11.465 by removing the words “a license or” wherever they appear and adding, in their place, the word “an”.

§ 11.466 [Amended]

63. Amend § 11.466(b) by removing the words “a license or” and adding, in their place, the word “an”.

§ 11.470 [Amended]

64. Amend § 11.470 as follows:

a. Remove the word “Present” wherever it appears and add, in its place, the word “Provide”;

b. In paragraph (d)(2)(i), remove the words “a license or” and add, in their place, the word “an”;

c. In paragraphs (e), (g), (i), and (k), remove the words “license or”; and

d. In paragraph (j)(2)(i), remove the words “a license or” and add, in their place, the word “an”.

§ 11.472 [Amended]

65. Amend § 11.472 as follows:

a. Remove the word “Present” wherever it appears and add, in its place, the word “Provide”; and

b. In paragraph (b), remove the words “license or”.

§ 11.474 [Amended]

66. Amend § 11.474 as follows:

a. Remove the word “Present” wherever it appears and add, in its place, the word “Provide”;

b. In paragraphs (a)(1)(i) and (ii), remove the words “a license or” and add, in their place, the word “an”; and

c. In paragraph (b), remove the words “license or”.

§ 11.480 [Amended]

67. In § 11.480(d), remove the word “present” and add, in its place, the word “provide”; and remove the text “fax,”.

§ 11.482 [Amended]

68. Amend § 11.482 as follows:

a. Remove the words “license or” wherever they appear; and

b. In paragraph (c), remove the words “a license or” and add, in their place, the word “an”.

§ 11.491 [Amended]

69. Amend § 11.491(a) by removing the words “license or”.

§ 11.501 [Amended]

70. Amend § 11.501 as follows:

b. In paragraph (c), remove the words “licenses or”; and

a. In paragraphs (d) and (e), remove the words “license or” wherever they appear.

§ 11.502 [Amended]

71. Amend § 11.502(b) by removing the words “a license or” and adding, in their place, the word “an”.

§ 11.503 [Amended]

72. Amend § 11.503 as follows:

a. Remove the words “a license or” wherever they appear, and add, in their place, the word “an”; and

b. In paragraph (c)(2), remove the words “licensed or”.

§ 11.510 [Amended]

73. Amend § 11.510(a)(2) by removing the words “a license or” and adding, in their place, the word “an”.

§ 11.512 [Amended]

74. Amend § 11.512(a)(1) by removing the words “a license or” and adding, in their place, the word “an”.

§ 11.514 [Amended]

75. Amend § 11.514(a) by removing the words “a license or” wherever they appear and adding, in their place, the word “an”.

§ 11.542 [Amended]

76. Amend § 11.542 as follows:

a. Remove the word “Present” wherever it appears, and add, in its place, the word “Provide”; and

b. In paragraph (b), remove the words “presentation of” and add, in their place, the word “providing”.

§ 11.544 [Amended]

77. Amend § 11.544 as follows:

a. Remove the word “Present” wherever it appears, and add, in its place, the word “Provide”; and

b. In paragraph (b), remove the words “presentation of the” and add, in their place, the word “providing”.

§ 11.603 [Amended]

78. Amend § 11.603 by removing the words “license must present” and adding, in their place, the text “an MMC must provide evidence of”.

§ 11.604 [Amended]

79. Amend § 11.604 by removing the word “present” and adding, in its place, the word “provide”.

§ 11.701 [Amended]

80. Amend § 11.701(d) by removing the words “A license or” and adding, in their place, the word “An”.

§ 11.703 [Amended]

81. Amend § 11.703(d) by removing the words “a license or” and adding, in their place, the word “an”.

§ 11.705 [Amended]

82. Amend § 11.705(c) by removing the words “license or” wherever they appear.

§ 11.707 [Amended]

83. Amend § 11.707(b) by removing the words “a license or” and adding, in their place, the word “an”.

§ 11.713 [Amended]

84. Amend § 11.713 by removing the words “license or” wherever they appear.

§ 11.805 [Amended]

85. Amend § 11.805 as follows:

a. In paragraph (a), remove the word “present”, and add, in its place, the word “provide”; and

b. In paragraph (b), remove the word “is” and add, in their place, the word “are”.

§ 11.807 [Amended]

86. Amend § 11.807(d) by removing the word “present” and adding, in its place, the word “provides”.

§ 11.821 [Amended]

87. Amend § 11.821(a)(2) by removing the word “Present” and adding, in its place, the word “Provide”.

§ 11.903 [Amended]

88. Amend § 11.903(c)(1) by removing the words “a license” and adding, in their place, the words “an endorsement”.

§ 11.920 [Amended]

89. In the heading “Table 2 to § 11.920”, remove the word “Licenses” and add, in its place, the word “Endorsements”.

PART 12—REQUIREMENTS FOR RATING ENDORSEMENTS

90. The authority citation for part 12 is revised to read as follows:

Authority: 31 U.S.C. 9701; 46 U.S.C. 2101, 2103, 2110, 7301, 7302, 7503, 7505, 7701, and 70105; DHS Delegation No. 00170.1, Revision No. 01.3.

§ 12.103 [Amended]

91. Amend § 12.103(a) by removing the period after the text “2703 Martin Luther King Jr. Avenue SE”.

§ 12.201 [Amended]

92. Amend § 12.201(a)(2) by removing the words “his or her” and adding, in their place, the word “their”.

§ 12.401 [Amended]

93. Amend § 12.401 as follows:

a. In paragraph (a), remove the text “or merchant mariner document (MMD)”; and

b. In paragraph (c)(3), remove the word “Present” and add, in its place, the word “Provide”.

§ 12.405 [Amended]

94. Amend § 12.405 as follows:

a. In paragraph (a):

i. Remove the words “he or she” and add, in their place, the word “they”; and

ii. Remove the words “his or her” and add, in their place, the word “their”; and

b. In paragraph (b)(2), remove the words “him or her” and add, in their place, the word “them”.

§ 12.407 [Amended]

95. Amend § 12.407 as follows:

a. In paragraph (b)(1)(iii), remove the word “Present” and add, in its place, the word “Provide”; and

b. In paragraph (b)(3):

i. Remove the words “he or she” and add, in their place, the word “they”; and

ii. Remove the words “his or her” and add, in their place, the word “their”.

§ 12.409 [Amended]

96. Amend § 12.409 as follows:

a. In paragraph (b)(1)(iii), remove the word “Present” and add, in its place, the word “Provide”; and

b. In paragraph (b)(3):

i. Remove the words “he or she” and add, in their place, the word “they”; and

ii. Remove the words “his or her” and add, in their place, the word “their”.

§ 12.501 [Amended]

97. Amend § 12.501 as follows:

a. In paragraph (b)(2), remove the words “he or she is” and add, in their place, the words “they are”; and

b. In paragraph (c)(3), remove the word “Present” and add, in its place, the word “Provide”.

§ 12.505 [Amended]

98. Amend § 12.505(a) as follows:

a. Remove the words “he or she” and add, in their place, the word “they”; and

b. Remove the words “his or her” and add, in their place, the word “their”.

§ 12.625 [Amended]

99. Amend § 12.625(a)(1) by removing the word “Present” and adding, in its place, the word “Provide”.

§ 12.627 [Amended]

100. Amend § 12.627(a)(1) by removing the word “Present” and adding, in its place, the word “Provide”.

§ 12.707 [Amended]

101. Amend § 12.707 by removing the word “present” and adding, in its place, the word “provide”.

§ 12.709 [Amended]

102. Amend § 12.709(a) by removing the word “present” and adding, in its place, the word “provide”.

§ 12.711 [Amended]

103. Amend § 12.711(a) as follows:

a. Remove the word “presents” and add, in its place, the word “provides”; and

b. Remove the words “he or she is” and add, in their place, the words “they are”.

§ 12.809 [Amended]

104. Amend § 12.809 as follows:

a. In paragraph (a), remove the words “he or she is” and add, in their place, the words “they are”; and

b. In paragraph (b), remove the word “present” and add, in its place, the word “provide”.

§ 12.811 [Amended]

105. Amend § 12.811 as follows:

a. In paragraph (b)(5)(iii), remove the words “he or she has” and add, in their place, the words “they have”; and

b. In paragraph (e), remove the words “his or her” and add, in their place, the word “their”.

PART 13—CERTIFICATION OF TANKERMEN

106. The authority citation for part 13 is revised to read as follows:

Authority: 46 U.S.C. 3703, 7317, 8105, 8703, 9102; DHS Delegation No. 00170.1, Revision No. 01.3.

107. In part 13, revise the following references wherever they appear:

a. “his or her” to read “their”; and

b. “he or she” to read “they”.

§ 13.103 [Amended]

108. Amend § 13.103(a) by removing the period after the text “2703 Martin Luther King Jr. Avenue SE”.

§ 13.107 [Amended]

109. Amend § 13.107 as follows:

a. Remove the word “holds” wherever it appears, and add, in its place, the word “hold”;

b. In paragraph (a), remove the words “engineer license or engineer” and add, in their place, the words “engineer officer”; and

c. In paragraph (d), remove the words “licensed or”.

§ 13.111 [Amended]

110. Amend § 13.111 as follows:

a. In paragraph (d)(3), remove the word “Present” and add, in its place, the word “Provide”; and

b. In paragraph (d)(4):

i. Remove the words “Present evidence in the form of a letter” and add, in their place, the words “Provide evidence in a method prescribed by the Coast Guard”; and

ii. Remove the words “on company letterhead”.

§ 13.119 [Amended]

111. In § 13.119, remove the words “merchant mariner's document or”.

§ 13.120 [Amended]

112. Amend § 13.120 by removing the word “present” wherever it appears and adding, in its place, the word “provide”.

§ 13.127 [Amended]

113. Amend § 13.127(a)(4) and (5) by removing the word “is” and adding, in its place, the word “are”.

§ 13.201 [Amended]

114. Amend § 13.201 as follows:

a. In paragraph (c) introductory text, remove the word “Present” and add, in its place, the word “Provide”;

b. In paragraph (c)(3):

i. Remove the word “has” and add, in its place, the word “have”;

ii. Remove the text “license,”; and

iii. Remove the comma after the words “tankerman endorsement”.

§ 13.203 [Amended]

115. Amend § 13.203 by removing the word “present” wherever it appears, and adding, in its place, the word “provide”.

116. Revise and republish § 13.205 to read as follows:

§ 13.205 Proof of service for tankerman-PIC endorsement.

Provide evidence in a method prescribed by the Coast Guard of proof of service from the owner, operator, or master of the vessel on which the applicant obtained the service. The evidence must contain the information described in § 13.127(a).

§ 13.301 [Amended]

117. Amend § 13.301 as follows:

a. In paragraph (c), remove the word “Present” and add, in its place, the word “Provide”; and

b. In paragraph (c)(3):

i. Remove the word “has” and add, in its place, the word “have”; and

ii. Remove the words “license, tankerman endorsement,” and add, in their place, the words “tankerman endorsement”.

§ 13.303 [Amended]

118. Amend § 13.303(a) by removing the word “present” and adding, in its place, the word “provide”.

119. Revise and republish § 13.305 to read as follows:

§ 13.305 Proof of service for tankerman-PIC (barge).

Provide evidence in a method prescribed by the Coast Guard of proof of service from the owner or operator of a terminal; the owner or operator of a tank barge; the owner, operator, or master of a tank vessel; or the employer of shore-based tankermen. The evidence must contain the information required by § 13.127(a), excluding paragraph (a)(4)(vii).

§ 13.401 [Amended]

120. Amend § 13.401 as follows:

a. Remove the word “Present” wherever it appears, and add, in its place, the word “Provide”; and

b. In paragraph (d):

i. Remove the word “has” and add, in its place, the word “have”;

ii. Remove the word “license,”; and

iii. Remove the comma after the words “tankerman endorsement”.

§ 13.405 [Amended]

121. Amend § 13.405 by:

a. Revising paragraph (a) introductory text;

b. In paragraph (b) introductory text, removing the word “has” and adding, in its place, the word “have”; and

c. In paragraph (b)(2), removing the words “him or her” and adding, in their place, the word “them”.

The revision reads as follows:

§ 13.405 Proof of service for tankerman-assistant endorsement.

(a) Evidence in a method prescribed by the Coast Guard from the owner, operator, or master of a tankship or self-propelled tank vessel. The evidence must specify—

* * * * *

§ 13.501 [Amended]

122. Amend § 13.501 as follows:

a. In paragraph (c) introductory text, remove the word “Present” and add, in its place, the word “Provide”; and

b. In paragraph (c)(3):

i. Remove the word “has” and add, in its place, the word “have”; and

ii. Remove the words “license, tankerman endorsement,” and add, in their place, the words “tankerman endorsement”.

§ 13.503 [Amended]

123. Amend § 13.503(a) by removing the word “present” and adding, in its place, the word “provide”.

§ 13.505 [Amended]

124. Revise § 13.505(a) introductory text to read as follows:

§ 13.505 Proof of service for tankerman-engineer endorsement.

(a) Provide evidence in a method prescribed by the Coast Guard of proof of service from the owner, operator, master, or chief engineer of a tankship or self-propelled tank vessel. The evidence must specify—

* * * * *

PART 14—SHIPMENT AND DISCHARGE OF MERCHANT MARINERS

126. The authority citation for part 14 continues to read as follows:

Authority: 5 U.S.C. 552; 46 U.S.C. Chapters 103 and 104; 46 U.S.C. 70105.

127. In part 14, revise all references to “his or her” to read “their”.

§ 14.103 [Amended]

127. In § 14.103(c), remove the text “http://www.uscg.mil/nmc” and add, in its place, the text “https://www.dco.uscg.mil/national_maritime_center/”.

128. Revise and republish § 14.205 to read as follows:

§ 14.205 Production of credentials by merchant mariner signing shipping articles.

On engagement for a voyage upon which shipping articles are required, each merchant mariner must provide to the master or individual in charge of the vessel a merchant mariner credential with endorsements required by law for the service the mariner would perform.

§ 14.207 [Amended]

129. In § 14.207(a)(1), remove the text “license, MMD or”.

130. Revise § 14.307 to read as follows:

§ 14.307 Entries on certificate of discharge.

(a) Each master or individual in charge of a vessel must, for each merchant mariner being discharged from the vessel, prepare a certificate of discharge in accordance with the procedure prescribed by the Coast Guard. The prescribed format may include the current form CG-718A or other means provided by the Coast Guard. If not using the Coast Guard prescribed format, the mariner must be provided with all the same information included on the certificate of discharge.

(b) Each mariner being discharged must validate the information on the certificate of discharge by signing it.

(c) When the mariner leaves the vessel, the master or individual in charge must give the certificate of discharge to the mariner.

§ 14.403 [Amended]

131. Amend § 14.403(a)(2) by removing the word “presented” and adding, in its place, the word “provided”.

132. Amend § 14.405 by:

a. In paragraph (c), before the words “will forward the request”, adding the text “OCMI”; and

b. Revising paragraph (d).

The revision reads as follows:

§ 14.405 Procedures.

* * * * *

(d) If operating conditions change, the owner, charterer, managing operator, master, or individual in charge of the vessel must so advise the Coast Guard OCMI in whose zone the vessel is located. The Coast Guard OCMI will forward pertinent information on how the conditions have changed, along with his or her recommendation, to the Commandant, who will determine whether any exemption should remain granted.

§ 14.407 [Amended]

133. In § 14.407(a), remove the words “to the address provided” and add, in their place, the words “in a manner specified”.

PART 15—MANNING REQUIREMENTS

134. The authority citation for part 15 is revised to read as follows:

Authority: 46 U.S.C. 2101, 2103, 3306, 3703, 8101, 8102, 8103, 8104, 8105, 8301, 8304, 8502, 8503, 8701, 8702, 8901, 8902, 8903, 8904, 8905(b), 8906 and 9102; sec. 617, Pub. L. 111-281, 124 Stat. 2905; and DHS Delegation No. 00170.1, Revision No. 01.3.

135. In part 15, revise the following references wherever they appear:

a. “his or her” to read “their”;

b. “he or she” to read “they”; and

c. “him or her” to read “them”.

§ 15.103 [Amended]

136. Amend § 15.103(a) by removing the period after the text “2703 Martin Luther King Jr. Avenue SE”.

§ 15.105 [Amended]

137. Amend § 15.105 as follows:

a. In paragraph (b), remove the words “licenses and”; and

b. In paragraph (h), remove the words “license or”.

§ 15.403 [Amended]

138. Amend § 15.403 by removing the text “or MMD” wherever it appears.

§ 15.404 [Amended]

139. Amend § 15.404 by removing the text “or MMD” wherever it appears.

[Amended]

140. Revise and republish § 15.410 by to read as follows:

§ 15.410 Credentialed individuals for assistance towing vessels.

Every assistance towing vessel must be under the direction and control of an individual holding an MMC authorizing him or her to engage in assistance towing under the provisions of § 11.482 of this subchapter.

§ 15.515 [Amended]

141. In § 15.515(c), remove the words “license or”.

§ 15.520 [Amended]

142. Amend § 15.520 as follows:

a. Remove the words “a license or” wherever they appear, and add, in their place, the word “an”;

b. In paragraph (c), remove the words “A license or” wherever it appears, and add, in their place, the word “An”;

c. In paragraph (d), remove the text “a license as master endorsed as OIM, or”;

d. In paragraph (e), remove the text “a license as master endorsed as OIM or”; and

e. In paragraph (g), remove the words “license, or an”.

§ 15.605 [Amended]

143. Amend § 15.605 by removing the words “a license or” wherever they appear and adding, in their place, the word “an”.

§ 15.610 [Amended]

144. Amend § 15.610(b) as follows:

a. Remove the words “a license or” and add, in their place, the word “an”; and

b. Before the text “MMC for towing vessels”, remove the words “license or”.

§ 15.701 [Amended]

145. Amend § 15.701(b) by removing the words “a license or” and adding, in their place, the word “an”.

§ 15.730 [Amended]

146. In § 15.730(d), remove the word “presented” and add, in its place, the word “provided”.

§ 15.805 [Amended]

147. Amend § 15.805 as follows:

a. Remove the words “a license or” wherever they appear, and add, in their place, the word “an”;

b. In paragraph (a), remove the words “license as or a”; and

c. In paragraph (b), remove the word “is” and add, in their place, the word “are”.

§ 15.810 [Amended]

148. Amend § 15.810 as follows:

a. Remove the words “a license or” wherever they appear and add, in their place, the word “an”;

b. In paragraphs (c) and (d)(2), remove the words “license or”;

c. In paragraph (d)(2)(ii), remove the words “A license or” and add, in their place, the word “An”;

d. In paragraph (e), remove the word “determines” and add, in its place, the word “determine”; and

e. In paragraph (g), remove the word “is” and add, in its place, the word “are”.

149. Amend § 15.812 as follows:

a. Revise paragraphs (b) and (c), table 1 to § 15.812(e)(1), and table 1 to § 15.812(e)(2);

b. In paragraph (f), remove the words “valid license or” wherever they appear and add, in their place, the word “or”; and

c. In paragraph (f)(1)(i), remove the words “a license or” and add, in their place, the word “an”.

The revisions read as follows:

§ 15.812 Pilots

* * * * *

(b) The following individuals may serve as a pilot on a vessel subject to paragraph (a) of this section, when underway on the navigable waters of the United States that are designated areas:

(1) An individual holding a valid MMC officer endorsement as first-class pilot, operating within the restrictions of their credential, may serve as pilot on any vessel to which this section applies.

(2) An individual holding a valid MMC officer endorsement as master or mate, employed aboard a vessel within the restrictions of their credential, may serve as pilot on a vessel of not more than 1,600 GRT propelled by machinery, described in paragraphs (a)(1) and (a)(3) of this section, provided they—

(i) Are at least 21 years old;

(ii) Are able to show current knowledge of the waters to be navigated, as required in § 11.713 of this subchapter; and

(iii) Provide evidence of completing a minimum of four roundtrips over the route to be traversed while in the wheelhouse as watchstander or observer. At least one of the roundtrips must be made during the hours of darkness if the route is to be traversed during darkness.

(3) An individual holding a valid MMC officer endorsement as master, mate, or operator employed aboard a vessel within the restrictions of their credential, may serve as pilot on a tank barge or tank barges totaling not more than 10,000 GRT/GT, described in paragraphs (a)(1) and (a)(3) of this section, provided they—

(i) Are at least 21 years old;

(ii) Are able to show current knowledge of the waters to be navigated, as required in § 11.713 of this subchapter;

(iii) Have a current physical examination in accordance with the provisions of § 11.709 of this subchapter;

(iv) Have at least 6 months of service in the deck department on towing vessels engaged in towing operations; and

(v) Provide evidence of completing a minimum of 12 roundtrips over the route to be traversed, as an observer or under instruction in the wheelhouse. At least three of the roundtrips must be made during the hours of darkness if the route is to be traversed during darkness.

(c) An individual holding a valid MMC officer endorsement as master, mate, or operator, employed aboard a vessel within the restrictions of their credential, may serve as a pilot for a vessel subject to paragraphs (a)(1) and (a)(2) of this section, when underway on the navigable waters of the United States that are not designated areas of pilotage waters, provided they—

(1) Are at least 21 years old;

(2) Are able to show current knowledge of the waters to be navigated, as required in § 11.713 of this subchapter; and

(3) Have a current physical examination in accordance with the provisions of § 11.709 of this subchapter.

* * * * *

Table 1 to § 15.812(e)(1)—Quick Reference Table for Federal Pilotage Requirements for U.S.-Inspected, Self-Propelled Vessels, Not Sailing on Register
| Designated areas of pilotage waters (routes for which First-Class Pilot's MMC officer endorsements are issued) | Non-designated areas of pilotage waters (between the 3-mile line and the start of traditional pilotage routes)
Inspected self-propelled vessels greater than 1,600 GRT, authorized by their COI to proceed beyond the Boundary Line, or operating on the Great Lakes | First-Class Pilot | Master or Mate may serve as pilot if they—
|  | 1. Are at least 21 years old; 2. Have an annual physical exam; and 3. Maintain current knowledge of the waters to be navigated.¹
Inspected self-propelled vessels not more than 1,600 GRT, authorized by their COI to proceed beyond the Boundary Line, or operating on the Great Lakes | First-Class Pilot, or Master or Mate may serve as pilot if they— 1. Are at least 21 years old; 2. Maintains current knowledge of the waters to be navigated; and ¹ 3. Have four roundtrips over the route.² | Master or Mate may serve as pilot if they— 1. Are at least 21 years old; and 2. Maintain current knowledge of the waters to be navigated.¹
Inspected self-propelled vessels greater than 1,600 GRT, not authorized by their COI to proceed beyond the Boundary Line (inland route vessels); other than vessels operating on the Great Lakes | First-Class Pilot | Master or Mate may serve as pilot if they— 1. Are at least 21 years old; 2. Have an annual physical exam; and 3. Maintain current knowledge of the waters to be navigated.¹
Inspected self-propelled vessels not more than 1,600 GRT, not authorized by their COI to proceed beyond the Boundary Line (inland route vessels); other than vessels operating on the Great Lakes | No pilotage requirement | No pilotage requirement.
¹ One roundtrip within the past 60 months.
² If the route is to be traversed during darkness, one of the four roundtrips must be made during darkness.

* * * * *

Table 2 to § 15.812(e)(2)—Quick Reference Table for Federal Pilotage Requirements for U.S.-Inspected Tank Barges, Not Sailing on Register
| Designated areas of pilotage waters (routes for which First-Class Pilot's MMC officer endorsements are issued) | Non-designated areas of pilotage waters (between the 3-mile line and the start of traditional pilotage routes)
Tank Barges greater than 10,000 GRT/GT, authorized by their COI to proceed beyond the Boundary Line, or operating on the Great Lakes | First-Class Pilot | Master, Mate, or Master, Mate (Pilot) of towing vessels may serve as pilot if they: 1. Are at least 21 years old; 2. Have an annual physical exam; ² 3. Maintain current knowledge of the waters to be navigated; ¹ and 4. Have at least 6 months' service in the deck department on towing vessels engaged in towing operations.
Tank Barges 10,000 GRT/GT or less, authorized by their COI to proceed beyond the Boundary Line, or operating on the Great Lakes | First-Class Pilot, or Master, Mate, or Master, Mate (Pilot) of towing vessels may serve as pilot if they: 1. Are at least 21 years old; 2. Have an annual physical exam; ² 3. Maintain current knowledge of the waters to be navigated; ¹ 4. Have at least 6 months' service in the deck department on towing vessels engaged in towing operations; and 5. Have 12 roundtrips over the route.³ |
Tank Barges authorized by their COI for inland routes only (lakes, bays, and sounds/rivers); other than vessels operating on the Great Lakes | No pilotage requirement | No pilotage requirement.
¹ One roundtrip within the past 60 months.
² Annual physical exam does not apply to an individual who will serve as a pilot of a tank barge of less than 1,600 GRT.
³ If the route is to be traversed during darkness, three of the 12 roundtrips must be made during darkness.

* * * * *

§ 15.815 [Amended]

150. Amend § 15.815(c) by removing the words “a license or” and adding, in their place, the word “an”.

§ 15.818 [Amended]

151. Amend § 15.818 by removing the words “is competent” and adding, in their place, the words “are competent”.

§ 15.820 [Amended]

152. Amend § 15.820 as follows:

a. In paragraph (a), remove the words “or license”;

b. In paragraph (a)(3), remove the words “a license or”;

c. In paragraph (b), remove the word “is” and add, in its place, the word “are”; and

d. In paragraph (c), remove the words “license or”.

§ 15.825 [Amended]

153. Amend § 15.825 as follows:

a. In paragraph (a), remove the words “license or”; and

b. In paragraph (b), remove the word “is” and add, in its place, the word “are”.

§ 15.860 [Amended]

154. Amend § 15.860 by removing the text “MMDs or” wherever it appears.

§ 15.901 [Amended]

155. Amend § 15.901 as follows:

a. Remove the words “individual's license or” wherever they appear and add, in their place, the word “individual's”; and

b. Remove the words “a license or” wherever they appear and add, in their place, the word “an”.

§ 15.905 [Amended]

156. Amend § 15.905 as follows:

a. Remove the words “a license or” wherever they appear and add, in their place, the word “an”; and

b. Remove the words “individual's license or” wherever they appear, and add, in their place, the word “individual's”.

§ 15.915 [Amended]

157. Amend § 15.915 as follows:

a. Remove the words “licenses and” wherever they appear; and

b. Remove the words “license or” wherever they appear.

§ 15.1001 [Amended]

158. In § 15.1001, remove the words “or license with” and add, in their place, the words “with an”.

§ 15.1103 [Amended]

159. Amend § 15.1103 as follows:

a. In paragraph (f), remove the text “a license, MMD, or” and add, in its place, the word “an”; and

b. In paragraph (g), remove the words “is competent” and add, in their place, the words “are competent”.

§ 15.1105 [Amended]

160. Amend § 15.1105 as follows:

a. In paragraph (a)(2)(ii), remove the word “Knows” and add, in its place, the word “Know”; and

b. In paragraph (b), remove the words “is familiar” and add, in their place, the words “are familiar”.

PART 16—CHEMICAL TESTING

161. The authority citation for part 16 is revised to read as follows:

Authority: 46 U.S.C. 2103, 3306, 7101, 7301, and 7701; DHS Delegation No. 00170.1, Revision No. 01.3.

162. Amend § 16.105 by revising the definition of “Credential” to read as follows:

§ 16.105 Definitions of terms used in this part.

* * * * *

Credential is the same as defined in 46 CFR 10.107.

* * * * *

§ 16.201 [Amended]

163. Amend § 16.201 by removing the words “his or her” wherever they appear, and adding, in their place, the word “their”.

§ 16.210 [Amended]

164. Amend § 16.210(b) by removing the word “he or she has” and adding, in their place, the words “they have”.

165. Amend § 16.220 by:

a. In paragraph (a)(1), removing the text “a license, COR, MMD, or” and adding, in its place, the word “an”;

b. In paragraph (a)(3) removing the text “a license or COR” and adding, in its place, the text “an MMC”;

c. Revising paragraph (a)(5); and

d. In paragraph (c), removing the words “he or she provides satisfactory evidence that he or she has” and adding, in their place, the words “they provide satisfactory evidence that they have”.

The revision reads follows:

§ 16.220 Periodic testing requirements.

(a) * * *

(5) A reissuance of a credential with a new expiration date. Results of the test must be provided to the Coast Guard in a manner prescribed by the Coast Guard. The test results must be completed and dated not more than 185 days before submission of the application.

* * * * *

§ 16.230 [Amended]

166. Amend § 16.230 as follows:

a. In paragraph (b)(1), remove the word “license” and add, in its place, the word “credential”; and

b. In paragraph (c), remove the words “his or her” and add, in their place, the word “their”.

§ 16.500 [Amended]

167. Amend § 16.500 by removing the period after the text “2703 Martin Luther King Jr. Avenue SE”.

Dated: February 26, 2024.
W.R. Arguin,
Rear Admiral, U.S. Coast Guard, Assistant Commandant for Prevention Policy.

[FR Doc. 2024-04351 Filed 3-13-24; 8:45 am]

BILLING CODE 9110-04-P